DEPARTMENT OF THE INTERIOR

Bureau of Ocean Energy Management, Regulation, and Enforcement

30 CFR Parts 201, 202, 203, 204, 206, 207, 208, 210, 212, 217, 218, 219, 220, 227, 228, 229, 241, 243, and 290

Office of Natural Resources Revenue

30 CFR Parts 1201, 1202, 1203, 1204, 1206, 1207, 1208, 1210, 1212, 1217, 1218, 1219, 1220, 1227, 1228, 1229, 1241, 1243, and 1290

[Docket No. MMS-2010-MRM-0033]

RIN 1010-AD70

Reorganization of Title 30, Code of Federal Regulations

AGENCY: Bureau of Ocean Energy Management, Regulation, and Enforcement; Office of Natural Resources Revenue; Department of the Interior.

ACTION: Direct final rule.

SUMMARY: On May 19, 2010, the Secretary of the Interior separated the responsibilities previously performed by the former Minerals Management Service (MMS) and reassigned those responsibilities to three separate organizations. As part of this reorganization, the Secretary renamed MMS's Minerals Revenue Management Program (MRM) the Office of Natural Resources Revenue (ONRR) and directed that ONRR transition to the Office of the Assistant Secretary—Policy, Management and Budget (PMB). This change requires reorganization of title 30 of the Code of Federal Regulations (30 CFR). This direct final rule amends chapter II in 30 CFR, establishes a new chapter XII in 30 CFR, removes certain regulations from chapter II, and recodifies them in the new chapter XII.

DATES: This rule is effective on October 1, 2010, without further action, unless substantive adverse comment is received by November 3, 2010. If substantive adverse comment is received that cannot be addressed, Department of the Interior will publish a timely amendment of the rule in the Federal Register.

ADDRESSES: You may submit comments on this rule by any of the following methods:

• Electronically go to http://www.regulations.gov. In the entry titled “Enter Keyword or ID,” enter MMS-2010-MRM-0033, and then click search. Follow the instructions to submit public comments. The ONRR will post all comments.

• Mail comments to Armand Southall, Regulatory Specialist, ONRR, PMB, P.O. Box 25165, MS 61013B, Denver, Colorado 80225. Please reference the Docket No. MMS-2010-MRM-0033 in your comments.

• Hand-carry comments or use an overnight courier service. Our courier address is Building 85, Room A-614, Denver Federal Center, West 6th Ave. and Kipling St., Denver, Colorado 80225. Please reference the Docket No. MMS-2010-MRM-0033 in your comments.

FOR FURTHER INFORMATION CONTACT: For questions on technical issues, contact Armand Southall, Regulatory Specialist, ONRR, PMB, telephone (303) 231-3221. You may obtain a paper copy of this rule by contacting Mr. Southall by phone or at the address listed above for mailing comments.

SUPPLEMENTARY INFORMATION:

Background

On May 19, 2010, by Secretarial Order No. 3299, the Secretary of the Department of the Interior announced the restructuring of the MMS. On June 18, 2010, by Secretarial Order No. 3302, the Secretary announced the name change of the MMS to the Bureau of Ocean Energy Management, Regulation, and Enforcement (BOEMRE). By these orders, the Secretary separated the responsibilities previously performed by MMS and reassigned those responsibilities to three separate organizations: the Office of Natural Resources Revenue (ONRR); the Bureau of Ocean Energy Management (BOEM); and the Bureau of Safety and Environmental Enforcement (BSEE). The new ONRR will be responsible for the existing MRM royalty and revenue functions and is scheduled to transition to the Assistant Secretary—Policy, Management and Budget organization on October 1, 2010, the beginning of Fiscal Year 2011.

Reorganization of Title 30 CFR

Title 30—Mineral Resources of the Code of Federal Regulations (30 CFR), is organized in three volumes. Volume II contains three chapters, and one of the chapters is titled “Chapter II—Minerals Management Service, Department of the Interior.” Because Secretarial Order No. 3299 separated ONRR functions (formerly MRM) from MMS (now BOEMRE), this direct final rule separates ONRR's regulations from the MMS regulations as well. This direct final rule reorganizes 30 CFR—renames chapter II from Minerals Management Service to Bureau of Ocean Energy Management, Regulation, and Enforcement, and adds a Chapter XII—Office of Natural Resources Revenue to 30 CFR as a new home for those regulations. This direct final rule does not make any substantive changes to the regulations or requirements in 30 CFR. It merely moves ONRR's current regulations to a new chapter XII in 30 CFR and makes technical corrections to position titles, agency names, and acronyms. In the near future, BOEMRE and ONRR may individually make additional technical corrections to their regulations as required by the restructuring of the former MMS into the three separate organizations. This may include changes to agency addresses, website addresses, delegation order numbers, and cross references within the regulations. Parts 200, 215, 230, 232, 233, 234, and 242 were not moved to chapter XII because these parts are listed as Reserved in title 30 CFR, chapter II. As noted, this direct final rule amends and removes 19 existing parts and related existing subparts in 30 CFR concerning royalty reporting and payment, marginal properties, product valuation, forms and reports, audits and inspections, collection of monies, delegation to states and cooperative activities, bonding, civil penalties, and appeals from chapter II and recodifies them in the new chapter XII.

The parts and subparts to be moved are:

• Part 201—General, which becomes part 1201.

• Part 202—Royalties, which becomes part 1202.

• Part 203—Relief or Reduction in Royalty Rates, Subpart F—Coal, which becomes part 1203.

• Part 204—Alternatives for Marginal Properties, which becomes part 1204.

• Part 206—Production Valuation, which becomes part 1206.

• Part 207—Sales Agreements or Contracts Governing the Disposal of Lease Products, which becomes part 1207.

• Part 208—Sale of Federal Royalty Oil, which becomes part 1208.

• Part 210—Forms and Reports, which becomes part 1210.

• Part 212—Records and Files Maintenance, which becomes part 1212.

• Part 217—Audits and Inspections, which becomes part 1217.

• Part 218—Collection of Monies and Provision for Geothermal Credits and Incentives, which becomes part 1218.

• Part 219—Distribution and Disbursement of Royalties, Rentals, and Bonuses, Subpart C—Oil and Gas, Onshore, which becomes part 1219.

• Part 220—Accounting Procedures for Determining Net Profit Share Payment for Outer Continental Shelf Oil and Gas Leases, which becomes part 1220.

• Part 227—Delegation to States, which becomes part 1227.

• Part 228—Cooperative Activities with States and Indian Tribes, which becomes part 1228.

• Part 229—Delegation to States, which becomes part 1229.

• Part 241—Penalties, which becomes part 1241.

• Part 243—Suspensions Pending Appeal and Bonding—Minerals Revenue Management, which becomes part 1243.

• Part 290—Appeals Procedures, Subpart B—Minerals Management Revenue Appeal Procedures, which becomes part 1290.

The following are derivation tables for each of these recodified parts:

Derivation Table for Part 1201
The requirements of section: | Are derived from section:
Subpart A [Reserved]
Subpart B [Reserved]
Subpart C
1201.100 | 201.100
Subpart D [Reserved]
Subpart E [Reserved]
Subpart F [Reserved]
Subpart G [Reserved]
Subpart H [Reserved]

Derivation Table for Part 1202
The requirements of section: | Are derived from section:
Subpart A [Reserved]
Subpart B
1202.51 | 202.51
1202.52 | 202.52
1202.53 | 202.53
Subpart C
1202.100 | 202.100
1202.101 | 202.101
Subpart D
1202.150 | 202.150
1202.151 | 202.151
1202.152 | 202.152
Subpart E [Reserved]
Subpart F
1202.250 | 202.250
Subpart G [Reserved]
Subpart H
1202.350 | 202.350
1202.351 | 202.351
1202.352 | 202.352
1202.353 | 202.353
Subpart I [Reserved]
Subpart J
1202.550 | 202.550
1202.551 | 202.551
1202.552 | 202.552
1202.553 | 202.553
1202.554 | 202.554
1202.555 | 202.555
1202.556 | 202.556
1202.557 | 202.557
1202.558 | 202.558

Derivation Table for Part 1203
Subpart A [Offshore Energy and Minerals Management]
Subpart B [Offshore Energy and Minerals Management]
Subpart C [Reserved]
Subpart D [Reserved]
Subpart E [Reserved]
Subpart F
1203.250 | 203.250
1203.251 | 203.251
Subpart G [Reserved]
Subpart H [Reserved]
Subpart I [Offshore Energy and Minerals Management]

Derivation Table for Part 1204
The requirements of section: | Are derived from section:
Subpart A
1204.1 | 204.1
1204.2 | 204.2
1204.3 | 204.3
1204.4 | 204.4
1204.5 | 204.5
1204.6 | 204.6
Subpart B [Reserved]
Subpart C
1204.200 | 204.200
1204.201 | 204.201
1204.202 | 204.202
1204.203 | 204.203
1204.204 | 204.204
1204.205 | 204.205
1204.206 | 204.206
1204.207 | 204.207
1204.208 | 204.208
1204.209 | 204.209
1204.210 | 204.210
1204.211 | 204.211
1204.212 | 204.212
1204.213 | 204.213
1204.214 | 204.214
1204.215 | 204.215

Derivation Table for Part 1206
The requirements of section: | Are derived from section:
Subpart A
1206.10 | 206.10
Subpart B
1206.50 | 206.50
1206.51 | 206.51
1206.52 | 206.52
1206.53 | 206.53
1206.54 | 206.54
1206.55 | 206.55
1206.56 | 206.56
1206.57 | 206.57
1206.58 | 206.58
1206.59 | 206.59
1206.60 | 206.60
1206.61 | 206.61
1206.62 | 206.62
Subpart C
1206.100 | 206.100
1206.101 | 206.101
1206.102 | 206.102
1206.103 | 206.103
1206.104 | 206.104
1206.105 | 206.105
1206.106 | 206.106
1206.107 | 206.107
1206.108 | 206.108
1206.109 | 206.109
1206.110 | 206.110
1206.111 | 206.111
1206.112 | 206.112
1206.113 | 206.113
1206.114 | 206.114
1206.115 | 206.115
1206.116 | 206.116
1206.117 | 206.117
1206.119 | 206.119
1206.120 | 206.120
Subpart D
1206.150 | 206.150
1206.151 | 206.151
1206.152 | 206.152
1206.153 | 206.153
1206.154 | 206.154
1206.155 | 206.155
1206.156 | 206.156
1206.157 | 206.157
1206.158 | 206.158
1206.159 | 206.159
1206.160 | 206.160
Subpart E
1206.170 | 206.170
1206.171 | 206.171
1206.172 | 206.172
1206.173 | 206.173
1206.174 | 206.174
1206.175 | 206.175
1206.176 | 206.176
1206.177 | 206.177
1206.178 | 206.178
1206.179 | 206.179
1206.180 | 206.180
1206.181 | 206.181
Subpart F
1206.250 | 206.250
1206.251 | 206.251
1206.252 | 206.252
1206.253 | 206.253
1206.254 | 206.254
1206.255 | 206.255
1206.256 | 206.256
1206.257 | 206.257
1206.258 | 206.258
1206.259 | 206.259
1206.260 | 206.260
1206.261 | 206.261
1206.262 | 206.262
1206.263 | 206.263
1206.264 | 206.264
1206.265 | 206.265
Subpart G
1206.301 | 206.301
Subpart H
1206.350 | 206.350
1206.351 | 206.351
1206.352 | 206.352
1206.353 | 206.353
1206.354 | 206.354
1206.355 | 206.355
1206.356 | 206.356
1206.357 | 206.357
1206.358 | 206.358
1206.359 | 206.359
1206.360 | 206.360
1206.361 | 206.361
1206.362 | 206.362
1206.363 | 206.363
1206.364 | 206.364
1206.365 | 206.365
1206.366 | 206.366
Subpart I [Reserved]
Subpart J
1206.450 | 206.450
1206.451 | 206.451
1206.452 | 206.452
1206.453 | 206.453
1206.454 | 206.454
1206.455 | 206.455
1206.456 | 206.456
1206.457 | 206.457
1206.458 | 206.458
1206.459 | 206.459
1206.460 | 206.460
1206.461 | 206.461
1206.462 | 206.462
1206.463 | 206.463
1206.464 | 206.464

Derivation Table for Part 1207
The requirements of section: | Are derived from section:
Subpart A
1207.1 | 207.1
1207.2 | 207.2
1207.3 | 207.3
1207.4 | 207.4
1207.5 | 207.5
Subpart B [Reserved]
Subpart C [Reserved]
Subpart D [Reserved]
Subpart E [Reserved]
Subpart F [Reserved]
Subpart G [Reserved]
Subpart H [Reserved]
Subpart I [Reserved]

Derivation Table for Part 1208
The requirements of section: | Are derived from section:
Subpart A
1208.1 | 208.1
1208.2 | 208.2
1208.3 | 208.3
1208.4 | 208.4
1208.5 | 208.5
1208.6 | 208.6
1208.7 | 208.7
1208.8 | 208.8
1208.9 | 208.9
1208.10 | 208.10
1208.11 | 208.11
1208.12 | 208.12
1208.13 | 208.13
1208.14 | 208.14
1208.15 | 208.15
1208.16 | 208.16
1208.17 | 208.17

Derivation Table for Part 1210
The requirements of section: | Are derived from section:
Subpart A
1210.01 | 210.01
1210.02 | 210.02
1210.10 | 210.10
1210.20 | 210.20
1210.21 | 210.21
1210.30 | 210.30
1210.40 | 210.40
Subpart B
1210.50 | 210.50
1210.51 | 210.51
1210.52 | 210.52
1210.53 | 210.53
1210.54 | 210.54
1210.55 | 210.55
1210.56 | 210.56
1210.60 | 210.60
Subpart C
1210.100 | 210.100
1210.101 | 210.101
1210.102 | 210.102
1210.103 | 210.103
1210.104 | 210.104
1210.105 | 210.105
1210.106 | 210.106
Subpart D
1210.150 | 210.150
1210.151 | 210.151
1210.152 | 210.152
1210.153 | 210.153
1210.154 | 210.154
1210.155 | 210.155
1210.156 | 210.156
1210.157 | 210.157
1210.158 | 210.158
Subpart E
1210.200 | 210.200
1210.201 | 210.201
1210.202 | 210.202
1210.203 | 210.203
1210.204 | 210.204
1210.205 | 210.205
1210.206 | 210.206
1210.207 | 210.207
Subpart F [Reserved]
Subpart G [Reserved]
Subpart H
1210.350 | 210.350
1210.351 | 210.351
1210.352 | 210.352
1210.353 | 210.353
1210.354 | 210.354
Subpart I [Reserved]

Derivation Table for Part 1212
The requirements of section: | Are derived from section:
Subpart A [Reserved]
Subpart B
1212.50 | 212.50
1212.51 | 212.51
1212.52 | 212.52
Subpart C [Reserved]
Subpart D [Reserved]
Subpart E
1212.200 | 212.200
Subpart F [Reserved]
Subpart G [Reserved]
Subpart H
1212.350 | 212.350
1212.351 | 212.351
Subpart I [Reserved]

Derivation Table for Part 1217
The requirements of section: | Are derived from section:
Subpart A [Reserved]
Subpart B
1217.50 | 217.50
1217.51 | 217.51
1217.52 | 217.52
Subpart C [Reserved]
Subpart D [Reserved]
Subpart E
1217.200 | 217.200
Subpart F
1217.250 | 217.250
Subpart G
1217.300 | 217.300
1217.301 | 217.301
1217.302 | 217.302
Subpart H [Reserved]

Derivation Table for Part 1218
The requirements of section: | Are derived from section:
Subpart A
1218.10 | 218.10
1218.40 | 218.40
1218.41 | 218.41
1218.42 | 218.42
Subpart B
1218.50 | 218.50
1218.51 | 218.51
1218.52 | 218.52
1218.53 | 218.53
1218.54 | 218.54
1218.55 | 218.55
1218.56 | 218.56
Subpart C
1218.100 | 218.100
1218.101 | 218.101
1218.102 | 218.102
1218.103 | 218.103
1218.104 | 218.104
1218.105 | 218.105
Subpart D
1218.150 | 218.150
1218.151 | 218.151
1218.152 | 218.152
1218.153 | 218.153
1218.154 | 218.154
1218.155 | 218.155
1218.156 | 218.156
Subpart E
1218.200 | 218.200
1218.201 | 218.201
1218.202 | 218.202
1218.203 | 218.203
Subpart F
1218.300 | 218.300
1218.301 | 218.301
1218.302 | 218.302
1218.303 | 218.303
1218.304 | 218.304
1218.305 | 218.305
1218.306 | 218.306
1218.307 | 218.307
Subpart G [Reserved]
Subpart H
1218.500 | 218.500
1218.520 | 218.520
1218.540 | 218.540
1218.560 | 218.560
1218.580 | 218.580

Derivation Table for Part 1219
The requirements of section: | Are derived from section:
Subpart A [Reserved]
Subpart B [Reserved]
Subpart C
1219.100 | 219.100
1219.101 | 219.101
1219.102 | 219.102
1219.103 | 219.103
1219.104 | 219.104
1219.105 | 219.105
Subpart D
1219.410 | 219.410
1219.411 | 219.411
1219.412 | 219.412
1219.413 | 219.413
1219.414 | 219.414
1219.415 | 219.415
1219.416 | 219.416
1219.417 | 219.417
1219.418 | 219.418

Derivation Table for Part 1220
The requirements of section: | Are derived from section:
1220.001 | 220.001
1220.002 | 220.002
1220.003 | 220.003
1220.010 | 220.010
1220.011 | 220.011
1220.012 | 220.012
1220.013 | 220.013
1220.014 | 220.014
1220.015 | 220.015
1220.020 | 220.020
1220.021 | 220.021
1220.022 | 220.022
1220.030 | 220.030
1220.031 | 220.031
1220.032 | 220.032
1220.033 | 220.033
1220.034 | 220.034

Derivation Table for Part 1227
The requirements of section: | Are derived from section:
1227.1 | 227.1
1227.10 | 227.10
1227.101 | 227.101
1227.102 | 227.102
1227.103 | 227.103
1227.104 | 227.104
1227.105 | 227.105
1227.106 | 227.106
1227.107 | 227.107
1227.108 | 227.108
1227.109 | 227.109
1227.110 | 227.110
1227.111 | 227.111
1227.112 | 227.112
1227.200 | 227.200
1227.201 | 227.201
1227.300 | 227.300
1227.301 | 227.301
1227.400 | 227.400
1227.401 | 227.401
1227.500 | 227.500
1227.501 | 227.501
1227.600 | 227.600
1227.601 | 227.601
1227.700 | 227.700
1227.800 | 227.800
1227.801 | 227.801
1227.802 | 227.802
1227.803 | 227.803
1227.804 | 227.804
1227.805 | 227.805

Derivation Table for Part 1228
The requirements of section: | Are derived from section:
Subpart A
1228.1 | 228.1
1228.2 | 228.2
1228.3 | 228.3
1228.4 | 228.4
1228.5 | 228.5
1228.6 | 228.6
1228.10 | 228.10
Subpart B [Reserved]
Subpart C
1228.100 | 228.100
1228.101 | 228.101
1228.102 | 228.102
1228.103 | 228.103
1228.104 | 228.104
1228.105 | 228.105
1228.107 | 228.107
1228.108 | 228.108

Derivation Table for Part 1229
The requirements of section: | Are derived from section:
Subpart A
1229.1 | 229.1
1229.2 | 229.2
1229.3 | 229.3
1229.4 | 229.4
1229.6 | 229.6
1229.10 | 229.10
Subpart B [Reserved]
Subpart C
1229.100 | 229.100
1229.101 | 229.101
1229.102 | 229.102
1229.103 | 229.103
1229.104 | 229.104
1229.105 | 229.105
1229.106 | 229.106
1229.107 | 229.107
1229.108 | 229.108
1229.109 | 229.109
1229.110 | 229.110
1229.111 | 229.111
1229.120 | 229.120
1229.121 | 229.121
1229.122 | 229.122
1229.123 | 229.123
1229.124 | 229.124
1229.125 | 229.125
1229.126 | 229.126
1229.127 | 229.127

Derivation Table for Part 1241
The requirements of section: | Are derived from section:
Subpart A [Reserved]
Subpart B
1241.50 | 241.50
1241.51 | 241.51
1241.52 | 241.52
1241.53 | 241.53
1241.54 | 241.54
1241.55 | 241.55
1241.56 | 241.56
1241.60 | 241.60
1241.61 | 241.61
1241.62 | 241.62
1241.63 | 241.63
1241.64 | 241.64
1241.70 | 241.70
1241.71 | 241.71
1241.72 | 241.72
1241.73 | 241.73
1241.74 | 241.74
1241.75 | 241.75
1241.76 | 241.76
1241.77 | 241.77
1241.80 | 241.80
Subpart C [Reserved]
Subpart D [Reserved]
Subpart E [Reserved]
Subpart F [Reserved]
Subpart G [Reserved]
Subpart H [Reserved]
Subpart I [Reserved]

Derivation Table for Part 1243
The requirements of section: | Are derived from section:
Subpart A
1243.1 | 243.1
1243.2 | 243.2
1243.3 | 243.3
1243.4 | 243.4
1243.5 | 243.5
1243.6 | 243.6
1243.7 | 243.7
1243.8 | 243.8
1243.9 | 243.9
1243.10 | 243.10
1243.11 | 243.11
1243.12 | 243.12
Subpart B
1243.100 | 243.100
1243.101 | 243.101
Subpart C
1243.200 | 243.200
1243.201 | 243.201
1243.202 | 243.202

Derivation Table for Part 1290
The requirements of section: | Are derived from section:
Subpart A [Offshore Energy and Minerals Management]
Subpart B
1290.100 | 290.100
1290.101 | 290.101
1290.102 | 290.102
1290.103 | 290.103
1290.104 | 290.104
1290.105 | 290.105
1290.106 | 290.106
1290.107 | 290.107
1290.108 | 290.108
1290.109 | 290.109
1290.110 | 290.110

Procedural Matters

1. Regulatory Planning and Review (E.O. 12866).

This document is not a significant rule, and the Office of Management and Budget (OMB) will not review this rule under Executive Order 12866.

a. This direct final rule does not have an effect of $100 million or more on the economy. It does not adversely affect in a material way the economy, productivity, competition, jobs, the environment, public health or safety, or state, local, or tribal governments or communities.

b. This direct final rule does not create a serious inconsistency or otherwise interfere with an action taken or planned by another agency.

c. This direct final rule does not alter the budgetary effects of entitlements, grants, user fees, or loan programs or the rights or obligations of their recipients.

d. This direct final rule does not raise novel legal or policy issues.

2. Regulatory Flexibility Act

The Department of the Interior certifies that this direct final rule not have a significant economic effect on a substantial number of small entities under the Regulatory Flexibility Act (5 U.S.C. 601 et seq.). This direct final rule will impact large and small entities but will not have a significant economic effect on either because this is a technical rule to reorganize certain title 30 CFR regulations.

3. Small Business Regulatory Enforcement Fairness Act (SBREFA)

This direct final rule is not a major rule under 5 U.S.C. 804(2), the Small Business Regulatory Enforcement Fairness Act. This direct final rule:

a. Will not have an annual effect on the economy of $100 million or more.

b. Will not cause a major increase in costs or prices for consumers, individual industries, Federal, state, or local government agencies, or geographic regions.

c. Will not have significant adverse effects on competition, employment, investment, productivity, innovation, or the ability of U.S.-based enterprises to compete with foreign-based enterprises.

4. Unfunded Mandates Reform Act

This direct final rule does not impose an unfunded mandate on state, local, or tribal governments, or the private sector of more than $100 million per year. This direct final rule does not have a significant or unique effect on state, local, or tribal governments, or the private sector. A statement containing the information required by the Unfunded Mandates Reform Act (2 U.S.C. 1531 et seq.) is not required.

5. Takings (E.O. 12630)

Under the criteria in Executive Order 12630, this direct final rule does not have any significant takings implications. This direct final rule applies to Outer Continental Shelf (OCS) and Federal and Indian onshore leases. It does not apply to private property. A takings implication assessment is not required.

6. Federalism (E.O. 13132)

Under the criteria in Executive Order 13132, this direct final rule does not have sufficient federalism implications that warrant the preparation of a Federalism Assessment. This is a technical rule to reorganize the title 30 CFR regulations. A Federalism Assessment is not required.

7. Civil Justice Reform (E.O. 12988)

This direct final rule complies with the requirements of Executive Order 12988. Specifically, this rule:

a. Meets the criteria of section 3(a) requiring that all regulations be reviewed to eliminate errors and ambiguity and be written to minimize litigation; and

b. Meets the criteria of section 3(b)(2) requiring that all regulations be written in clear language and contain clear legal standards.

8. Consultation With Indian Tribes (E.O. 13175)

Under the criteria in Executive Order 13175, we have evaluated this direct final rule and determined that it has no effects on federally recognized Indian tribes.

9. Paperwork Reduction Act

This direct final rule does not contain information collection requirements, and a submission to OMB is not required under the Paperwork Reduction Act of 1995 (44 U.S.C. 3501 et seq.).

10. National Environmental Policy Act

This direct final rule does not constitute a major Federal action significantly affecting the quality of the human environment. A detailed statement under the National Environmental Policy Act of 1969 is not required.

11. Data Quality Act

In developing this direct final rule, we did not conduct or use a study, experiment, or survey requiring peer review under the Data Quality Act (Pub. L. 106-554).

12. Effects on the Energy Supply (E.O. 13211)

This direct final rule is not a significant energy action under the definition in Executive Order 13211. A Statement of Energy Effects will not be required.

13. Clarity of This Regulation

We are required by Executive Orders 12866 and 12988 and by the Presidential Memorandum of June 1, 1998, to write all rules in plain language. This means that each rule we publish must: (a) Be logically organized; (b) Use the active voice to address readers directly; (c) Use clear language rather than jargon; (d) Be divided into short sections and sentences; and (e) Use lists and tables wherever possible.

If you feel that we have not met these requirements, send us comments by one of the methods listed in the ADDRESSES section. To better help us revise the rule, your comments should be as specific as possible. For example, you should tell us the numbers of the sections or paragraphs that are unclearly written, which sections or sentences are too long, the sections where you feel lists or tables would be useful, etc.

14. Public Availability of Comments

Before including your address, phone number, e-mail address, or other personal identifying information in your comment, you should be aware that your entire comment—including your personal identifying information—may be made publicly available at any time. While you can ask us in your comment to withhold your personal identifying information from public view, we cannot guarantee that we will be able to do so.

List of Subjects

30 CFR Part 201

Government contracts, Mineral royalties, Oil and gas exploration, Public Lands—mineral resources.

30 CFR Part 202

Coal, Continental shelf, Geothermal energy, Government contracts, Indians—lands, Mineral royalties, Oil and gas exploration, Public lands—mineral resources, Reporting and recordkeeping requirements, Sulfur.

30 CFR Part 203

Continental shelf, Government contracts, Indians—lands, Mineral royalties, Oil and gas exploration, Public lands—mineral resources, Sulfur.

30 CFR Part 204

Accounting and auditing relief, Barrels of oil equivalent (BOE), Continental shelf, Federal lease, Marginal property, Mineral royalties, Royalty prepayment, Royalty relief.

30 CFR Part 206

Coal, Continental shelf, Geothermal energy, Government contracts, Indians—lands, Mineral royalties, Oil and gas exploration, Public lands—mineral resources, Reporting and recordkeeping requirements.

30 CFR Part 207

Continental shelf, Government contracts, Indians—lands, Mineral royalties, Public lands—mineral resources, Reporting and recordkeeping requirements.

30 CFR Part 208

Continental shelf, Government contracts, Mineral royalties, Petroleum, Public lands—mineral resources, Reporting and recordkeeping requirements, Small businesses, Surety bonds.

30 CFR Part 210

Continental shelf, Geothermal energy, Government contracts, Indians—lands, Mineral royalties, Oil and gas exploration, Public lands—mineral resources, Reporting and recordkeeping requirements, Sulfur.

30 CFR Part 212

Continental shelf, Geothermal energy, Government contracts, Indians—lands, Mineral royalties, Oil and gas exploration, Public lands—mineral resources, Reporting and recordkeeping requirements.

30 CFR Part 217

Coal, Government contracts, Mineral royalties, Oil and gas exploration, Public lands—mineral resources, Reporting and recordkeeping requirements.

30 CFR Part 218

Continental shelf, Electronic funds transfer, Geothermal energy, Indians—lands, Mineral royalties, Oil and gas exploration, Public lands—mineral resources, Reporting and recordkeeping requirements.

30 CFR Part 219

Government contracts, Indians—lands, Mineral royalties, Oil and gas exploration, Public lands—mineral resources.

30 CFR Part 220

Accounting, Continental shelf, Government contracts, Mineral royalties, Oil and gas exploration, Public lands—mineral resources, Reporting and recordkeeping requirements.

30 CFR Part 227

Administrative practice and procedure, Mineral royalties, Reporting and recordkeeping requirements.

30 CFR Part 228

Accounting, Administrative practice and procedure, Indians—lands, Intergovernmental relations, Mineral royalties, Oil and gas exploration, Public lands—mineral resources, Reporting and recordkeeping requirements.

30 CFR Part 229

Accounting, Administrative practice and procedure, Authority delegations (Government agencies), Indians—lands, Intergovernmental relations, Mineral royalties, Oil and gas exploration, Public lands—mineral resources, Reporting and recordkeeping requirements.

30 CFR Part 241

Administrative practice and procedure, Continental shelf, Government contracts, Indians—lands, Mineral royalties, Oil and gas exploration, Penalties, Public lands—mineral resources, Sulfur.

30 CFR Part 243

Administrative practice and procedure, Government contracts, Mineral royalties, Public lands—mineral resources.

30 CFR Part 290

Administrative practice and procedure.

30 CFR Part 1201

Government contracts, Mineral royalties, Oil and gas exploration, Public Lands—mineral resources.

30 CFR Part 1202

Coal, Continental shelf, Geothermal energy, Government contracts, Indians—lands, Mineral royalties, Oil and gas exploration, Public lands—mineral resources, Reporting and recordkeeping requirements, Sulfur.

30 CFR Part 1203

Continental shelf, Government contracts, Indians—lands, Mineral royalties, Public lands—mineral resources.

30 CFR Part 1204

Accounting and auditing relief, Barrels of oil equivalent (BOE), Continental shelf, Federal lease, Marginal property, Mineral royalties, Royalty prepayment, Royalty relief.

30 CFR Part 1206

Coal, Continental shelf, Geothermal energy, Government contracts, Indians—lands, Mineral royalties, Oil and gas exploration, Public lands—mineral resources, Reporting and recordkeeping requirements.

30 CFR Part 1207

Continental shelf, Government contracts, Indians—lands, Mineral royalties, Public lands—mineral resources, Reporting and recordkeeping requirements.

30 CFR Part 1208

Continental shelf, Government contracts, Mineral royalties, Petroleum, Public lands—mineral resources, Reporting and recordkeeping requirements, Small businesses, Surety bonds.

30 CFR Part 1210

Continental shelf, Geothermal energy, Government contracts, Indians—lands, Mineral royalties, Oil and gas exploration, Public lands—mineral resources, Reporting and recordkeeping requirements, Sulfur.

30 CFR Part 1212

Continental shelf, Geothermal energy, Government contracts, Indians—lands, Mineral royalties, Oil and gas exploration, Public lands—mineral resources, Reporting and recordkeeping requirements.

30 CFR Part 1217

Coal, Government contracts, Mineral royalties, Oil and gas exploration, Public lands—mineral resources, Reporting and recordkeeping requirements.

30 CFR Part 1218

Continental shelf, Electronic funds transfers, Geothermal energy, Indians—lands, Mineral royalties, Oil and gas exploration, Public lands—mineral resources, Reporting and recordkeeping requirements.

30 CFR Part 1219

Government contracts, Indians—lands, Mineral royalties, Oil and gas exploration, Public lands—mineral resources.

30 CFR Part 1220

Accounting, Continental shelf, Government contracts, Mineral royalties, Oil and gas exploration, Public lands—mineral resources, Reporting and recordkeeping requirements.

30 CFR Part 1227

Administrative practice and procedure, Mineral royalties, Reporting and recordkeeping requirements.

30 CFR Part 1228

Accounting, Administrative practice and procedure, Indians—lands, Intergovernmental relations, Mineral royalties, Oil and gas exploration, Public lands—mineral resources, Reporting and recordkeeping requirements.

30 CFR Part 1229

Accounting, Administrative practice and procedure, Authority delegations (Government agencies), Indians—lands, Intergovernmental relations, Mineral royalties, Oil and gas exploration, Public lands—mineral resources, Reporting and recordkeeping requirements.

30 CFR Part 1241

Administrative practice and procedure, Continental shelf, Government contracts, Indians—lands, Mineral royalties, Oil and gas exploration, Penalties, Public lands—mineral resources, Sulfur.

30 CFR Part 1243

Administrative practice and procedure, Government contracts, Mineral royalties, Public lands—mineral resources.

30 CFR Part 1290

Administrative practice and procedure.

Dated: September 28, 2010
David J. Hayes,
Deputy Secretary, Department of the Interior.

Authority and Issuance

For the reasons discussed in the preamble, under the authority provided by the Reorganization Plan No. 3 of 1950 (64 Stat. 1262), the Department of the Interior amends title 30 CFR Chapter II and establishes a new 30 CFR Chapter XII as follows:

TITLE 30—MINERAL RESOURCES

CHAPTER II—BUREAU OF OCEAN ENERGY MANAGEMENT, REGULATION, AND ENFORCEMENT, DEPARTMENT OF THE INTERIOR

1. Revise the heading of 30 CFR chapter II to read as set forth above.

CHAPTER XII—OFFICE OF NATURAL RESOURCES REVENUE, DEPARTMENT OF THE INTERIOR

Subchapter A—Natural Resources Revenue

Subchapter B—Appeals

2. Amend title 30 of the CFR by establishing chapter XII and its subchapters to read as set forth above.

Chapter II, Subchapter A

2A. Remove reserved part 200 from subchapter A.

PART 201—[REDESIGNATED AS PART 1201]

3. Transfer 30 CFR part 201 from chapter II, subchapter A, to chapter XII, subchapter A, and redesignate as 30 CFR part 1201.

Chapter XII, Subchapter A

PART 1201—GENERAL

4. The authority citation for the newly redesignated 30 CFR part 1201 continues to read as follows:

Authority: The Act of February 25, 1920 (30 U.S.C. 181, et seq.), as amended; the Act of May 21, 1930 (30 U.S.C. 301-306); the Mineral Leasing Act for Acquired Lands (30 U.S.C. 351-359), as amended; the Act of March 3, 1909 (25 U.S.C. 396), as amended; the National Environmental Policy Act of 1969 (42 U.S.C. 4321, et seq.) as amended; the Act of May 11, 1938 (25 U.S.C. 396a-396q), as amended; the Act of February 28, 1891 (25 U.S.C. 397), as amended; the Act of May 29, 1924 (25 U.S.C. 398); the Act of March 3, 1927 (25 U.S.C. 398a-398e); the Act of June 30, 1919 (25 U.S.C. 399), as amended; R.S. § 441 (43 U.S.C. 1457), see also Attorney General's Opinion of April 2, 1941 (40 Op. Atty. Gen. 41); the Federal Property and Administrative Services Act of 1949 (40 U.S.C. 471, et seq.), as amended; the National Environmental Policy Act of 1969 (42 U.S.C. 4321 et seq.), as amended; the Act of December 12, 1980 (Pub. L. 96-514, 94 Stat. 2964); the Combined Hydrocarbon Leasing Act of 1981 (Pub. L. 97-78, 95 Stat. 1070); the Outer Continental Shelf Lands Act (43 U.S.C. 1331, et seq.), as amended; section 2 of Reorganization Plan No. 3 of 1950 (64 Stat. 1262); Secretarial Order No. 3071 of January 19, 1982, as amended; and Secretarial Order 3087, as amended.

5. Amend the newly redesignated part 1201 as follows:

Amendment Table for Part 1201
Amend | By removing the reference to: | And adding in its place:
§ 1201.100 (section heading) | Associate Director for Minerals Revenue Management | Director for Office of Natural Resources Revenue.
§ 1201.100 (introductory text) | Associate Director | Director.

Chapter II, Subchapter A

PART 202—[REDESIGNATED AS PART 1202]

6. Transfer 30 CFR part 202 from chapter II, subchapter A, to chapter XII, subchapter A, and redesignate as 30 CFR part 1202.

Chapter XII, Subchapter A

PART 1202—ROYALTIES

7. The authority citation for the newly redesignated 30 CFR part 1202 continues to read as follows:

Authority: 5 U.S.C. 301 et seq.; 25 U.S.C. 396 et seq., 396a et seq., 2101 et seq.; 30 U.S.C. 181 et seq., 351 et seq., 1001 et seq.; 1701 et seq.; 31 U.S.C. 9701; 43 U.S.C. 1301 et seq.; 1331 et seq., 1801 et seq.

8. Amend the newly redesignated part 1202 as follows:

Amendment Table for Part 1202
Amend | By removing the reference to: | And adding in its place:
§ 1202.51(b) | part 206 | part 1206.
§ 1202.100(a) | MMS | the Office of Natural Resources Revenue (ONRR).
§ 1202.100(a) | part 206 | part 1206.
§ 1202.100(b)(1) | MMS | Bureau of Ocean Energy Management, Regulation, and Enforcement (BOEMRE).
§ 1202.100(b)(2) | MMS | BOEMRE.
§ 1202.100(c) | MMS | BOEMRE.
§ 1202.100(c) | part 206 | part 1206.
§ 1202.100(e)(1) (two times) | part 206 | part 1206.
§ 1202.100(e)(2) | MMS | ONRR.
§ 1202.100(f) | MMS | ONRR.
§ 1202.150(a) | MMS | ONRR.
§ 1202.150(a) | part 206 | part 1206.
§ 1202.150(b)(1) | MMS | BOEMRE.
§ 1202.150(b)(2) | MMS | BOEMRE.
§ 1202.150(c) | MMS | BOEMRE.
§ 1202.150(c) | part 206 | part 1206.
§ 1202.150(e)(1) (two times) | part 206 | part 1206.
§ 1202.150(e)(2) | MMS | ONRR.
§ 1202.150(f) | MMS | ONRR.
§ 1202.151(a)(2) | MMS | ONRR.
§ 1202.151(a)(2) (two times) | part 206 | part 1206.
§ 1202.151(b) | part 206 | part 1206.
§ 1202.151(c) | MMS | BOEMRE.
§ 1202.350(b) | 30 CFR 206.351 | § 1206.351.
§ 1202.351(a)(1) | part 206 | part 1206.
§ 1202.351(a)(2) | part 206 | part 1206.
§ 1202.351(a)(3) | § 218.306 | § 1218.306.
§ 1202.351(b)(2) introductory text | 30 CFR 206.351 | § 1206.351.
§ 1202.351(b)(2)(i) introductory text | MMS | ONRR.
§ 1202.351(b)(2)(ii) introductory text | MMS | ONRR.
§ 1202.351(b)(2)(iii) | 30 CFR 206.351 | § 1206.351.
§ 1202.351(b)(3) | MMS | ONRR.
§ 1202.351(c) | part 206 | part 1206.
§ 1202.353(a)(1) | § 206.352(a) | § 1206.352(a).
§ 1202.353(a)(2) | § 206.352(b) | § 1206.352(b).
§ 1202.353(b)(4) | MMS | ONRR.
§ 1202.353(c) | MMS-established | ONRR-established.
§ 1202.353(e) | MMS | ONRR.
§ 1202.550(b)(2) | MMS | ONRR.
§ 1202.550(c)(1) | part 206 | part 1206.
§ 1202.550(e) | part 218 | part 1218.
§ 1202.551(a) | §§ 202.555, 202.556, and 202.557 | §§ 1202.555, 1202.556, and 1202.557.
§ 1202.551(c) (two times) | MMS | ONRR.
§ 1202.551(c) | part 206 | part 1206.
§ 1202.552(b) | part 206 | part 1206.
§ 1202.552(b) | § 202.553 | § 1202.553.
§ 1202.552(b) | § 202.554 | § 1202.554.
§ 1202.553 | part 206 | part 1206.
§ 1202.554(a) | part 206 | part 1206.
§ 1202.554(c) (two times) | § 206.172(b) | § 1206.172(b).
§ 1202.554(d) introductory text | § 206.172(b) | § 1206.172(b).
§ 1202.554(d)(1) | part 206 | part 1206.
§ 1202.554(d)(2) | part 206 | part 1206.
§ 1202.554(d)(3) | part 206 | part 1206.
§ 1202.554(d)(4) | part 206 | part 1206.
§ 1202.554(d)(5) | MMS | ONRR.
§ 1202.554(d)(5) | 30 CFR 206.174 | § 1206.174.
§ 1202.554(d)(5) | MMS-designated | ONRR-designated.
§ 1202.555(a)(4) | 30 CFR 206.179(e) | § 1206.179(e).
§ 1202.556 | part 206 | part 1206.

Chapter II, Subchapter A

PART 203—[AMENDED]

9. Transfer 30 CFR part 203, subpart F (§§ 203.250-203.251), from chapter II, subchapter A, to 30 CFR, chapter XII, subchapter A, and redesignate as “Part 1203—Relief or Reduction in Royalty Rates—Coal” (§§ 1203.250 and 1203.251)

Subpart F—[Reserved]

10. Add and reserve a new subpart F to part 203 to read as set forth above.

Chapter XII, Subchapter A

PART 1203—RELIEF OR REDUCTION IN ROYALTY RATES—COAL

11. Add an authority citation for the newly redesignated 30 CFR part 1203 to read as follows:

Authority: 25 U.S.C. 396 et seq.; 25 U.S.C. 396a et seq.; 25 U.S.C. 2101 et seq.; 30 U.S.C. 181 et seq.; 30 U.S.C. 351 et seq.; 30 U.S.C. 1701 et seq.; 31 U.S.C. 9701; 43 U.S.C. 1301 et seq.; and 43 U.S.C. 1331 et seq.

Chapter II, Subchapter A

PART 204—[REDESIGNATED AS PART 1204]

12. Transfer 30 CFR part 204 from chapter II, subchapter A, to chapter XII, subchapter A, and redesignate as 30 CFR part 1204.

Chapter XII, Subchapter A

PART 1204—ALTERNATIVES FOR MARGINAL PROPERTIES

13. The authority citation for the newly redesignated 30 CFR part 1204 continues to read as follows:

Authority: 30 U.S.C. 1701 et seq.

14. Amend the newly redesignated part 1204 as follows:

Amendment Table for Part 1204
Amend | By removing the reference to: | And adding in its place:
§ 1204.2, definition of Designee | 30 CFR 218.52 | § 1218.52.
§ 1204.2, definition of Producing wells. | § 204.4(c) | § 1204.4(c).
§ 1204.2, definition of Property | § 204.4 | § 1204.4.
§ 1204.3 introductory text | MMS | ONRR.
§ 1204.3(a) | MMS | ONRR.
§ 1204.3(b) | MMS | ONRR.
§ 1204.5(a) introductory text (two times) | MMS | ONRR.
§ 1204.5(a)(2) | MMS | ONRR.
§ 1204.5(b) introductory text (two times) | MMS | ONRR.
§ 1204.5(b)(1) introductory text | MMS | ONRR.
§ 1204.5(b)(1)(i) | § 204.202 | § 1204.202.
§ 1204.5(b)(1)(ii) | § 204.203 | § 1204.203.
§ 1204.5(b)(1)(ii) | MMS | ONRR.
§ 1204.5(b)(2) | MMS's | ONRR's.
§ 1204.6 (section heading and introductory text). | MMS | ONRR.
§ 1204.6 | § 204.203 | § 1204.203.
§ 1204.6 | part 290 | part 1290.
§ 1204.200 | § 204.202 | § 1204.202.
§ 1204.200 | § 204.203 | § 1204.203.
§ 1204.201(a)(1) | § 204.4 | § 1204.4.
§ 1204.201(b)(2) | § 204.208 | § 1204.208.
§ 1204.202(b)(1) | § 204.205(a) | § 1204.205(a)
§ 1204.202(b)(1) | MMS | ONRR.
§ 1204.202(b)(2) | § 218.51(g) | § 1218.51(g).
§ 1204.202(c) | § 218.54 | § 1218.54.
§ 1204.202(c) | MMS | ONRR.
§ 1204.202(d)(1) | 30 CFR 218.54 | § 1218.54.
§ 1204.202(d)(1) (two times) | MMS | ONRR.
§ 1204.202(e)(2) | 30 CFR 218.54 | § 1218.54.
§ 1204.203(a) introductory text | § 204.204 | § 1204.204.
§ 1204.203(a) introductory text | § 204.5 | § 1204.5.
§ 1204.203(a)(1) (two times) | part 206 | part 1206.
§ 1204.203(a)(2) (two times) | MMS | ONRR.
§ 1204.203(b) | MMS | ONRR.
§ 1204.203(b) | § 204.205(b) | § 1204.205(b).
§ 1204.203(b) | § 204.206 | § 1204.206.
§ 1204.204 (section heading and introductory text) | MMS | ONRR.
§ 1204.204(a) | MMS | ONRR.
§ 1204.204(e) | MMS's | ONRR's.
§ 1204.204(j) | § 204.208 | § 1204.208.
§ 1204.205(a) introductory text | § 204.202 | § 1204.202.
§ 1204.205(a) introductory text | MMS | ONRR.
§ 1204.205(a)(1)(i) | MMS-assigned | ONRR-assigned.
§ 1204.205(a)(1)(ii) | MMS | ONRR.
§ 1204.205(b) introductory text | § 204.203 | § 1204.203.
§ 1204.205(b) introductory text | MMS | ONRR.
§ 1204.205(b)(1)(i) | MMS-assigned | ONRR-assigned.
§ 1204.205(b)(1)(ii) | MMS | ONRR.
§ 1204.206 introductory text | § 204.205(b) | § 1204.205(b).
§ 1204.206 (section heading and introductory text) | MMS | ONRR.
§ 1204.206 introductory text | § 204.205(b) | § 1204.205(b).
§ 1204.206(a) introductory text | MMS | ONRR.
§ 1204.206(a) introductory text | § 204.207(b) | § 1204.207(b).
§ 1204.206(a)(1) (two times) | MMS | ONRR.
§ 1204.206(a)(2) (two times) | MMS | ONRR.
§ 1204.206(a)(2) | § 204.6 | § 1204.6.
§ 1204.206(a)(3) introductory text (two times) | MMS | ONRR.
§ 1204.206(a)(3)(i) | MMS's | ONRR's.
§ 1204.206(a)(3)(ii) (two times) | MMS | ONRR.
§ 1204.206(a)(3)(ii) | MMS's | ONRR's.
§ 1204.206(a)(3)(ii) | § 204.6 | § 1204.6.
§ 1204.206(b) introductory text | MMS | ONRR.
§ 1204.206(b)(1) | MMS's | ONRR's.
§ 1204.206(b)(2) | MMS | ONRR.
§ 1204.206(b)(3) (two times) | MMS | ONRR.
§ 1204.206(b)(3) | MMS's | ONRR's.
§ 1204.206(b)(3) | § 204.6 | § 1204.6.
§ 1204.206(b)(4) | MMS | ONRR.
§ 1204.207(a) | MMS | ONRR.
§ 1204.208(a) | MMS | ONRR.
§ 1204.208(b) | MMS | ONRR.
§ 1204.208(c)(1) | Associate Director for Minerals Revenue Management, MMS | Director for Office of Natural Resources Revenue.
§ 1204.208(c)(2) | MMS | ONRR.
§ 1204.208(d)(1) | Associate Director for Minerals Revenue Management, MMS | Director for Office of Natural Resources Revenue.
§ 1204.208(d)(2) | MMS | ONRR.
§ 1204.208(e) | MMS | ONRR.
§ 1204.208(f) | MMS | ONRR.
§ 1204.209(a) | MMS | ONRR.
§ 1204.209(a) | § 204.205 | § 1204.205.
§ 1204.209(b) | § 204.210 | § 1204.210.
§ 1204.209(b) | MMS | ONRR.
§ 1204.209(c) | § 204.202(e) | § 1204.202(e).
§ 1204.210 introductory text | MMS's Offshore Minerals Management (OMM) | BOEMRE.
§ 1204.210(a) | MMS | ONRR.
§ 1204.210(a) | § 204.211 | § 1204.211.
§ 1204.210(b) | OMM | BOEMRE.
§ 1204.210(c) (two times) | OMM | BOEMRE.
§ 1204.210(c) | § 204.202(b) | § 1204.202(b).
§ 1204.210(d) | MMS | ONRR.
§ 1204.210(d) | § 204.202(b) | § 1204.202(b).
§ 1204.210(d) | 30 CFR 218.54 | § 1218.54.
§ 1204.210(d) | § 204.202(b)(2) | § 1204.202(b)(2)
§ 1204.211 (section heading) | MMS | ONRR.
§ 1204.211(a) introductory text (two times) | MMS | ONRR.
§ 1204.211(a)(1) | § 204.205 | § 1204.205
§ 1204.211(a)(2) | MMS | ONRR.
§ 1204.211(a)(2) | § 204.205 | § 1204.205
§ 1204.211(a)(3) | § 204.209(b) | § 1204.209(b)
§ 1204.211(b) (two times) | MMS | ONRR.
§ 1204.212(a) | 30 CFR 218.54 | § 1218.54
§ 1204.212(a) | MMS | ONRR.
§ 1204.215 | part 210 | part 1210

Chapter II, Subchapter A

PART 206—[REDESIGNATED AS PART 1206]

15. Transfer 30 CFR part 206 from chapter II, subchapter A, to chapter XII, subchapter A, and redesignate as 30 CFR part 1206.

Chapter XII, Subchapter A

PART 1206—PRODUCT VALUATION

16. The authority citation for the newly redesignated 30 CFR part 1206 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

17. Amend the newly redesignated part 1206 as follows:

Amendment Table for Part 1206
Amend | By removing the reference to: | And adding in its place:
§ 1206.10 | 30 CFR 210.10 | § 1210.10.
§ 1206.50(b)92) (two times) | MMS | ONRR.
§ 1206.50(c) | MMS | ONRR.
1206.51, definition of Affiliate, paragraph (1) | MMS | ONRR.
§ 1206.51, definition of Affiliate, paragraph (2) | MMS | ONRR.
§ 1206.51, definition of Lessee, paragraph (2) | MMS | ONRR.
§ 1206.51, definition of MMS | MMS | ONRR.
§ 1206.51, definition of MMS | Minerals Management Service | Office of Natural Resources Revenue.
§ 1206.52(a) introductory text | §§ 206.56 and 206.57 | §§ 1206.56 and 1206.57.
§ 1206.52(c), introductory text | MMS | ONRR.
§ 1206.52(c)(2) introductory text | MMS | ONRR.
§ 1206.52(c)(2) | MMS | ONRR.
§ 1206.52(c)(2)(ii) | MMS | ONRR.
§ 1206.52(e)(1) | §§ 206.56 and 206.57 | §§ 1206.56 and 1206.57.
§ 1206.52(e)(2) | §§ 206.56 and 206.57 | §§ 1206.56 and 1206.57.
§ 1206.52(e)(3) two times | MMS | ONRR.
§ 1206.52(e)(4) introductory text | MMS | ONRR.
§ 1206.52(e)(4) introductory text | §§ 206.56 and 206.57 | §§ 1206.56 and 1206.57.
§ 1206.53(e)(5) two times | MMS | ONRR.
§ 1206.52g | § 206.54 | § 1206.54.
§ 1206.53(a)(2) | §§ 206.56 and 206.57 | §§ 1206.56 and 1206.57.
§ 1206.53(a)(3) | §§ 206.56 and 206.57 | §§ 1206.56 and 1206.57.
§ 1206.52(c) introductory text | MMS | ONRR.
§ 1206.52(c) introductory text | §§ 206.56 and 206.57 | §§ 1206.56 and 1206.57.
§ 1206.53(d) | MMS | ONRR.
§ 1206.53(e) | § 206.54 | § 1206.54.
§ 1206.54(a) | MMS | ONRR.
§ 1206.55 | § 206.52 | § 1206.52.
§ 1206.56(a) | § 206.52 or § 206.53 | § 1206.52 or § 1206.53.
§ 1206.56(a) | MMS | ONRR.
§ 1206.56(b)(1) | § 206.52 | § 1206.52.
§ 1206.56(b)(2) (two times) | MMS | ONRR.
§ 1206.56(c) | § 206.57 | § 1206.57
§ 1206.56(d) | MMS | ONRR.
§ 1206.56(d) | 30 CFR 218.54 | § 1218.54 of this chapter.
§ 1206.57(a)(1)(i) (two times) | MMS | ONRR.
§ 1206.57(a)(1)(ii) (two times) | MMS | ONRR.
§ 1206.57(a)(1)(iii) (four times) | MMS | ONRR.
§ 1206.57(a)(2)(i) | MMS | ONRR.
§ 1206.57(a)(2)(ii) (two times) | MMS | ONRR.
§ 1206.57(a)(3) (five times) | MMS | ONRR.
§ 1206.57(a)(5) (two times) | MMS | ONRR.
§ 1206.57(b)(1) (four times) | MMS | ONRR.
§ 1206.57(b)(2)(iv) introductory text | MMS | ONRR.
§ 1206.57(b)(2)(iv)(A) | MMS | ONRR.
§ 1206.57(b)(2)(iv)(B) | MMS | ONRR.
§ 1206.57(b)(3)(i) | MMS | ONRR.
§ 1206.57(b)(3)(ii) (two times) | MMS | ONRR.
§ 1206.57(b)(4) (five times) | MMS | ONRR.
§ 1206.57(b)(5) introductory text (four times) | MMS | ONRR.
§ 1206.57(b)(5)(i) | MMS | ONRR.
§ 1206.57(c)(1)(iii) | MMS | ONRR.
§ 1206.57(c)(1)(iv) (two times) | MMS | ONRR.
§ 1206.57(c)(1)(v) | MMS | ONRR.
§ 1206.57(c)(1)(vi) | MMS | ONRR.
§ 1206.57(c)(2)(iii) (two times) | MMS | ONRR.
§ 1206.57(c)(2)(v) | MMS | ONRR.
§ 1206.57(c)(2)(vi) (two times) | MMS | ONRR.
§ 1206.57(c)(2)(vii) | MMS | ONRR.
§ 1206.57(c)(3) | MMS | ONRR.
§ 1206.57(c)(4) | MMS | ONRR.
§ 1206.57(d)(3) | 30 CFR 218.54 | § 1218.56 of this chapter.
§ 1206.57(e)(1) | 30 CFR 218.54 | § 1218.54 of this chapter.
§ 1206.57(e)(2) | MMS | ONRR.
§ 1206.58 (section heading) | MMS | ONRR.
§ 1206.58(a) introductory text | MMS | ONRR.
§ 1206.58(a)(1) | MMS | ONRR.
§ 1206.58(a)(2) | § 218.54 | § 1218.54.
§ 1206.58(b) | § 218.53 | § 1218.53.
§ 1206.59 (section heading) | MMS | ONRR.
§ 1206.59 (three times) | MMS | ONRR.
§ 1206.60(b) | §§ 206.52, 206.53, or 206.54 | §§ 1206.52, 1206.53, or 1206.54.
§ 1206.61(a) | MMS | ONRR.
§ 1206.61(b) | §§ 207.5, 212.50, and 212.51 | §§ 1207.5, 1212.50, and 1212.51.
§ 1206.61(b) (two times) | MMS | ONRR.
§ 1206.62 (section heading) | MMS | ONRR.
§ 1206.62 | MMS | ONRR.
§ 1206.100(d)(3) (two times) | MMS | ONRR.
§ 1206.100(e) | MMS | ONRR.
§ 1206.101, definition of Affiliate, paragraph (1) | MMS | ONRR.
§ 1206.101, definition of Affiliate, paragraph (2) | MMS | ONRR.
§ 1206.101, definition of Field | MMS | ONRR.
§ 1206.101, definition of Gathering | MMS | ONRR.
§ 1206.101, definition of Market center | MMS | ONRR.
§ 1206.101, definition of Market center | MMS-approved | ONRR-approved.
§ 1206.101, definition of MMS-approved publication | MMS-approved | ONRR-approved.
§ 1206.101, definition of MMS-approved publication | MMS | ONRR.
§ 1206.102(a) introductory text | §§ 206.110 or 206.111 | §§ 1206.110 or 1206.111.
§ 1206.102(c)(1) (two times) | MMS | ONRR.
§ 1206.102(c)(1) | § 206.103 | § 1206.103.
§ 1206.102(c)(2) introductory text | § 206.103 | § 1206.103.
§ 1206.102(c)(2) introductory text | MMS | ONRR.
§ 1206.102(c)(2)(ii)(A) | MMS | ONRR.
§ 1206.102(c)(2)(ii)(B) | MMS | ONRR.
§ 1206.102(d)(1) introductory text | § 206.102(a) or § 206.103 | § 1206.102(a) or § 1206.103.
§ 1206.102(d)(1)(i) | § 206.102(a) | § 1206.102(a).
§ 1206.102(d)(1)(i) (two times) | MMS | ONRR.
§ 1206.102(d)(1)(i) | § 206.103 | § 1206.103.
§ 1206.102(d)(1)(ii) | § 206.102(d)(1) to use § 206.102(a) or § 206.103 | § 1206.102(d)(1) to use § 1206.102(a) or § 1206.103.
§ 1206.102(d)(2)(i) | § 206.102(a) or § 206.103 | § 1206.102(a) or § 1206.103.
§ 1206.102(d)(2)(ii) | § 206.102(d)(2)(i) to use § 206.102(a) or § 206.103 | § 1206.102(d)(2)(i) to use § 1206.102(a) or § 1206.103.
§ 1206.102(e)(1) | MMS | ONRR.
§ 1206.103 introductory text | § 206.102 | § 1206.102.
§ 1206.103 introductory text | § 206.102(d) | § 1206.102(d).
§ 1206.103 introductory text | MMS | ONRR.
§ 1206.103(a) introductory text (two times) | MMS-approved | ONRR-approved.
§ 1206.103(a)(3) | § 206.112 | § 1206.112.
§ 1206.103(a)(4) | MMS-approved | ONRR-approved.
§ 1206.103(a)(4) | MMS | ONRR.
§ 1206.103(b) introductory text | § 206.102 | § 1206.102.
§ 1206.103(b) introductory text | § 206.102(d) | § 1206.102(d).
§ 1206.103(b)(1) introductory text | MMS-approved | ONRR-approved.
§ 1206.103(b)(1)(i) introductory text | MMS | ONRR.
§ 1206.103(b)(1)(ii) | MMS-approved | ONRR-approved.
§ 1206.103(b)(3) | § 206.112 | § 1206.112.
§ 1206.103(b)(4) | MMS's | ONRR's.
§ 1206.103(b)(4) | MMS | ONRR.
§ 1206.103(c)(1) | § 206.112 | § 1206.112.
§ 1206.103(c)(2) (three times) | MMS | ONRR.
§ 1206.103(d) (two times) | MMS | ONRR.
§ 1206.103(e)(1) | MMS | ONRR.
§ 1206.103(e)(2)(iv) | MMS | ONRR.
§ 1206.103(e)(3) | MMS | ONRR.
§ 1206.103(e)(3) | § 206.112(b) | § 1206.112(b).
§ 1206.104 (section heading) | MMS | ONRR.
§ 1206.104(a) introductory text | MMS | ONRR.
§ 1206.104(a)(4) | MMS | ONRR.
§ 1206.104(b) | MMS | ONRR.
§ 1206.104(c) | MMS | ONRR.
§ 1206.104(d) | MMS | ONRR.
§ 1206.105(b) | part 207 | part 207.
§ 1206.105(c) (two times) | MMS | ONRR.
§ 1206.107(a) introductory text | MMS | ONRR.
§ 1206.107(a)(3) | MMS | ONRR.
§ 1206.107(b) (two times) | MMS | ONRR.
§ 1206.107(b)(1) | Land and Minerals Management | Policy, Management and Budget.
§ 1206.107(b)(2) | MMS | ONRR.
§ 1206.107(b)(3) (two times) | MMS | ONRR.
§ 1206.107(c)(1) | Land and Minerals Management | Policy, Management and Budget.
§ 1206.107(c)(1) | MMS | ONRR.
§ 1206.107(c)(2) | 30 CFR 218.54 | § 1218.54 of this chapter.
§ 1206.107(d) introductory text (three times) | MMS
§ 1206.107(d) introductory text | MMS-issued | ONRR-issued.
§ 1206.107(d)(1) | MMS | ONRR.
§ 1206.107(d)(1) | part 290, subpart B | part 1290.
§ 1206.107(d)(2) | part 290, subpart B | part 1290.
§ 1206.107(e) | MMS | ONRR.
§ 1206.107(f) | MMS | ONRR.
§ 1206.107(g) introductory text | MMS | ONRR.
§ 1206.107(h) | MMS | ONRR.
§ 1206.107(h) | § 206.108 | § 1206.108.
§ 1206.108 (section heading) | MMS | ONRR.
§ 1206.108 (two times) | MMS | ONRR.
§ 1206.109(a) introductory text | MMS | ONRR.
§ 1206.109(a) introductory text | §§ 206.110 or 206.111 | §§ 1206.110 or 1206.111.
§ 1206.109(a)(1) | § 206.102 | § 1206.102.
§ 1206.109(b) | § 206.103 | § 1206.103
§ 1206.109(b) | MMS | ONRR.
§ 1206.109(b) | § 206.112 | § 1206.112.
§ 1206.109(c)(1) | § 206.102 or § 206.103 | § 1206.102 or § 1206.103.
§ 1206.109(c)(2) (two times) | MMS | ONRR.
§ 1206.109(d) | §§ 206.110 and 206.111 | §§ 1206.110 and 1206.111.
§ 1206.109(e) (two times) | MMS | ONRR.
§ 1206.109(e) | 30 CFR 218.54 | § 1218.54 of this chapter.
§ 1206.109(e) | § 206.116 | § 1206.116
§ 1206.110(a) introductory text | § 206.109(c) | § 1206.109(c).
§ 1206.110(a) introductory text | MMS | ONRR.
§ 1206.110(a)(1) (two times) | MMS | ONRR.
§ 1206.110(a)(1) | § 206.111 | § 1206.111
§ 1206.110(a)(2) introductory text | § 206.111
§ 1206.110(a)(2) introductory text | MMS | ONRR.
§ 1206.110(a)(2)(ii)(A) | MMS | ONRR.
§ 1206.110(a)(2)(ii)(B) | MMS | ONRR.
§ 1206.110(b)(4)(i) | § 206.102 or § 206.103 | § 1206.102 or § 1206.103.
§ 1206.110(b)(4)(ii) | § 206.111(i)(2) | § 1206.111(i)(2).
§ 1206.110(d)(3) (two times) | MMS | ONRR.
§ 1206.110(e) introductory text | MMS | ONRR.
§ 1206.110(e)(1) (two times) | MMS | ONRR.
§ 1206.110(g)(2) | MMS | ONRR.
§ 1206.111(b)(6)(ii)(A) | § 206.102 or § 206.103 | § 1206.102 or § 1206.103.
§ 1206.111(b)(6)(ii)(B) | § 206.111(i)(2) | § 1206.111(i)(2).
§ 1206.111(g) | MMS | ONRR.
§ 1206.111(k)(2) (two times) | MMS | ONRR.
§ 1206.111(l)(1) | MMS | ONRR.
§ 1206.111(l)(2) (two times) | MMS | ONRR.
§ 1206.112 introductory text | § 206.103 | § 1206.103
§ 1206.112 introductory text | MMS-recognized | ONRR-recognized.
§ 1206.112(a)(1)(ii) (two times) | MMS | ONRR.
§ 1206.112(a)(1)(ii) (two times) | MMS's | ONRR's.
§ 1206.112(a)(2) | § 206.110 or § 206.111 | § 1206.110 or § 1206.111.
§ 1206.112(a)(4) (two times) | MMS | ONRR.
§ 1206.112(a)(4) (two times) | MMS's | ONRR's.
§ 1206.112(b)(2) (two times) | MMS-approved | ONRR-approved.
§ 1206.112(b)(2) | MMS | ONRR.
§ 1206.112(b)(3) (two times) | MMS | ONRR.
§ 1206.112(b)(3) (two times) | MMS's | ONRR's.
§ 1206.112(c)(1) | MMS | BOEMRE.
§ 1206.112(c)(2) | MMS | ONRR.
§ 1206.112(d)(3) (three times) | MMS | ONRR.
§ 1206.113 (section heading) | MMS | ONRR.
§ 1206.113 introductory text (three times) | MMS | ONRR.
§ 1206.113(a) | MMS-approved | ONRR-approved.
§ 1206.114 (two times) | MMS | ONRR.
§ 1206.114 | part 207 | part 1207.
§ 1206.115(a) | MMS | ONRR.
§ 1206.115(b) | § 206.117 | 1206.117.
§ 1206.115(c) | MMS | ONRR.
§ 1206.115(c) | part 207 | part 1207.
§ 1206.116(a) | MMS's | ONRR's.
§ 1206.116(a) | § 206.109 | § 1206.109.
§ 1206.116(a) (two times) | MMS | ONRR.
§ 1206.116(b) | MMS | ONRR.
§ 1206.116(b) | part 241 | part 1241.
§ 1206.117(a) | 30 CFR 218.54 | § 1218.54 of this chapter.
§ 1206.119(a) | MMS | BOEMRE.
§ 1206.119(b) | MMS | BOEMRE.
§ 1206.119(c) | MMS | BOEMRE.
§ 1206.120 (two times) | MMS | BOEMRE.
§ 1206.150(b)(3) (two times) | MMS | ONRR.
§ 1206.150(c) | MMS | ONRR.
§ 1206.151, definition of Affiliate, paragraph (1) | MMS | ONRR.
§ 1206.151, definition of Affiliate, paragraph (2) | MMS | ONRR.
§ 1206.151, definition of Field | MMS | BOEMRE.
§ 1206.151, definition of Gathering | MMS | BOEMRE.
§ 1206.152(a)(1) | § 206.155 | § 1206.155.
§ 1206.152(a)(1) | § 206.153 | § 1206.153.
§ 1206.152(b)(1)(ii) (two times) | MMS | ONRR.
§ 1206.152(b)(1)(iii) (four times) | MMS | ONRR.
§ 1206.152(b)(1)(iv) | MMS | ONRR.
§ 1206.152(b)(2) (two times) | MMS | ONRR.
§ 1206.152(b)(3) | MMS | ONRR.
§ 1206.152(d)(1) | MMS | ONRR.
§ 1206.152(e)(1) | MMS | ONRR.
§ 1206.152(e)(2) | MMS | ONRR.
§ 1206.152(e)(3) (two times) | MMS | ONRR.
§ 1206.152(e)(3) | Associate Director | Associate Director
§ 1206.152(e)(3) | Minerals Revenue Management | Office of Natural Resources Revenue.
§ 1206.152(f) (three times) | MMS | ONRR.
§ 1206.152(f) | 30 CFR 218.54 | § 1218.54 of this chapter.
§ 1206.152(g) (seven times) | MMS | ONRR.
§ 1206.152(k) | MMS | ONRR.
§ 1206.152(l) | MMS | ONRR.
§ 1206.153(a)(1) | § 206.152 | § 1206.152.
§ 1206.153(a)(2) | § 206.102 | § 1206.102.
§ 1206.153(b)(1)(ii) (two times) | MMS | ONRR.
§ 1206.153(b)(1)(iii) (four times) | MMS | ONRR.
§ 1206.153(b)(1)(iv) | MMS | ONRR.
§ 1206.153(b)(2) (two times) | MMS | ONRR.
§ 1206.153(b)(3) | MMS | ONRR.
§ 1206.153(d)(1) | MMS | ONRR.
§ 1206.153(e)(1) | MMS | ONRR.
§ 1206.153(e)(2) | MMS | ONRR.
§ 1206.153(e)(3) (two times) | MMS | ONRR.
§ 1206.153(e)(3) | Associate Director | Director.
§ 1206.153(e)(3) | Minerals Revenue Management | Office of Natural Resources Revenue.
§ 1206.153(f) (two times) | MMS | ONRR.
§ 1206.153(f) | 30 CFR 218.54 | § 1218.54 of this chapter.
§ 1206.153(f) | MMS | ONRR.
§ 1206.153(g) (seven times) | MMS | ONRR.
§ 1206.153(k) | MMS | ONRR.
§ 1206.153(l) | MMS | ONRR.
§ 1206.154(a)(1) | MMS | BOEMRE.
§ 1206.154(a)(2) | § 206.152 | § 1206.152.
§ 1206.154(a)(2) | MMS | BOEMRE.
§ 1206.154(b)(2) | § 206.153 | § 1206.153.
§ 1206.154(c)(4) | MMS | ONRR.
§ 1206.154(d)(1) | MMS | BOEMRE.
§ 1206.154(d)(2) | 30 CFR 202.151(c) | § 1202.151(c).
§ 1206.155(a)(1) | § 206.153 | § 1206.153.
§ 1206.155(a)(1) | § 206.102 | § 1206.102.
§ 1206.155(a)(2) | § 206.152 | § 1206.152.
§ 1206.155(b) | § 206.150(b) | § 1206.150(b).
§ 1206.156(a) | § 206.152 or § 206.153 | § 1206.152 or § 1206.153.
§ 1206.156(a) | MMS | ONRR.
§ 1206.156(b) | § 206.157 | § 1206.157.
§ 1206.156(c)(1) (two times) | § 206.152 | § 1206.152.
§ 1206.156(c)(2) (two times) | § 206.153 | § 1206.153.
§ 1206.156(c)(3) (two times) | MMS | ONRR.
§ 1206.156(d) (two times) | MMS | ONRR.
§ 1206.156(d) | 30 CFR 218.54 | § 1218.54 of this chapter.
§ 1206.156(d) | part 241 | part 1241.
§ 1206.157(a)(1)(i) | MMS' | ONRR's.
§ 1206.157(a)(1)(ii) (two times) | MMS | ONRR.
§ 1206.157(a)(1)(iii) (four times) | MMS | ONRR.
§ 1206.157(a)(2)(i) | MMS | ONRR.
§ 1206.157(a)(2)(ii) (two times) | MMS | ONRR.
§ 1206.157(a)(3) (four times) | MMS | ONRR.
§ 1206.157(a)(5) (two times) | MMS | ONRR.
§ 1206.157(b)(1) | MMS | ONRR.
§ 1206.157(b)(2)(iv) introductory text | MMS | ONRR.
§ 1206.157(b)(2)(iv)(A) | MMS | ONRR.
§ 1206.157(b)(2)(iv)(B) | MMS | ONRR.
§ 1206.157(b)(3)(i) | MMS | ONRR.
§ 1206.157(b)(3)(ii) (two times) | MMS | ONRR.
§ 1206.157(b)(4) (four times) | MMS | ONRR.
§ 1206.157(b)(5)(i) introductory text | The MMS | ONRR.
§ 1206.157(b)(5)(ii) | MMS | ONRR.
§ 1206.157(c)(1)(i) | MMS | ONRR.
§ 1206.157(c)(1)(ii) | The MMS | ONRR.
§ 1206.157(c)(1)(ii) | part 207 | part 1207.
§ 1206.157(c)(2)(i) | MMS | ONRR.
§ 1206.157(c)(2)(iii) | The MMS | ONRR.
§ 1206.157(c)(2)(iii) | part 207 | part 1207.
§ 1206.157(d)(1) (two times) | MMS | ONRR.
§ 1206.157(d)(1) | § 206.156 | § 1206.156.
§ 1206.157(d)(3) | 30 CFR 218.54 | § 1218.54 of this chapter.
§ 1206.157(e)(1) | 30 CFR 218.54 | § 1218.54 of this chapter.
§ 1206.157(e)(1) | MMS | ONRR.
§ 1206.157(e)(2) | MMS | ONRR.
§ 1206.157(e)(3) (two times) | MMS | ONRR.
§ 1206.157(f)(9) | MMS | ONRR.
§ 1206.157(f)(9) | §§ 206.152(i) and 206.153(i) | §§ 1206.152(i) and 1206.153(i).
§ 1206.158(a) | § 206.153 | § 1206.153.
§ 1206.158(c)(1) | MMS | ONRR.
§ 1206.158(c)(2) | § 206.153 | § 1206.153.
§ 1206.158(c)(2) | § 206.156 | § 1206.156.
§ 1206.158(c)(3) (two times) | MMS | ONRR.
§ 1206.158(d)(1) | MMS | ONRR.
§ 1206.158(d)(2)(i) | MMS | ONRR.
§ 1206.158(d)(2)(ii) (three times) | MMS | ONRR.
§ 1206.158(e) (two times) | MMS | ONRR.
§ 1206.158(e) | 30 CFR 218.54 | § 1218.54 of this chapter.
§ 1206.158(e) | part 241 | part 1241.
§ 1206.159(a)(1)(i) | MMS' | ONRR's.
§ 1206.159(a)(1)(ii) (two times) | MMS | ONRR.
§ 1206.159(a)(1)(iii) (four times) | MMS | ONRR.
§ 1206.159(a)(3) (four times) | MMS | ONRR.
§ 1206.159(b)(1) | MMS | ONRR.
§ 1206.159(b)(2)(iv) introductory text | MMS | ONRR.
§ 1206.159(b)(2)(iv)(A) | MMS | ONRR.
§ 1206.159(b)(2)(iv)(B) | MMS | ONRR.
§ 1206.159(b)(4) (three times) | MMS | ONRR.
§ 1206.159(c)(1)(i) | MMS | ONRR.
§ 1206.159(c)(1)(ii) | The MMS | ONRR.
§ 1206.159(c)(1)(ii) | MMS | ONRR.
§ 1206.159(c)(2) | MMS | ONRR.
§ 1206.159(c)(2)(iii) (two times) | MMS | ONRR.
§ 1206.159(d)(1) (two times) | MMS | ONRR.
§ 1206.159(d)(1) | § 206.158 | § 1206.158.
§ 1206.159(d)(3) | 30 CFR 218.54 | § 1218.54 of this chapter.
§ 1206.159(e)(1) | 30 CFR 218.54 | § 1218.54 of this chapter.
§ 1206.159(e)(1) | MMS | ONRR.
§ 1206.159(e)(2) | MMS | ONRR.
§ 1206.159(e)(3) (two times) | MMS | ONRR.
§ 1206.170(c) (two times) | MMS | ONRR.
§ 1206.170(d) | MMS | ONRR.
§ 1206.171 introductory text | part 202 | part 1202.
§ 1206.171, definition of Active spot market | MMS-acceptable | ONRR-acceptable.
§ 1206.171, definition of Arm's-length contract, paragraph (3) (two times) | MMS | ONRR.
§ 1206.171, definition of Index | MMS-established | ONRR-established.
§ 1206.171, definition of Index zone | MMS | ONRR.
§ 1206.171, definition of Index zone | § 206.172(d)(2) | § 1206.172(d)(2).
§ 1206.171, definition of MMS | MMS | ONRR.
§ 1206.171, definition of MMS | Minerals Management Service | Office of Natural Resources Revenue.
§ 1206.171, definition of MMS | MMS | ONRR.
§ 1206.172(a) introductory text | § 206.174 | § 1206.174.
§ 1206.172(a)(2) | § 206.174 | § 1206.174.
§ 1206.172(b)(2) | § 206.172(e)(4)(i) | § 1206.172(e)(4)(i).
§ 1206.172(b)(2) | § 206.176 | § 1206.176.
§ 1206.172(b)(2) | § 206.176 or § 206.174 | § 1206.176 or § 1206.174.
§ 1206.172(b)(3) | § 206.174(b) | § 1206.174(b).
§ 1206.172(c)(2) introductory text | § 206.173 | § 1206.173.
§ 1206.172(c)(2)(ii) | § 206.174 | § 1206.174.
§ 1206.172(d)(1)(i) | MMS-approved | ONRR-approved.
§ 1206.172(d)(2) introductory text (three times) | MMS | ONRR.
§ 1206.172(d)(2)(i) | MMS-approved | ONRR-approved.
§ 1206.172(d)(2)(v) | MMS's | ONRR's.
§ 1206.172(d)(3) (two times) | MMS | ONRR.
§ 1206.172(d)(4) introductory text | MMS | ONRR.
§ 1206.172(d)(5) | MMS | ONRR.
§ 1206.172(d)(6) (three times) | MMS | ONRR.
§ 1206.172(d)(6) | MMS-approved | ONRR-approved.
§ 1206.172(d)(7) | MMS | ONRR.
§ 1206.172(d)(8) | §§ 206.177, 206.178, 206.179, and 206.180 | §§ 1206.177, 1206.178, 1206.179, and 1206.180.
§ 1206.172(e)(6)(i) | MMS | ONRR.
§ 1206.172(e)(6)(iii) (two times) | MMS | ONRR.
§ 1206.172(f)(1) introductory text (two times) | MMS | ONRR.
§ 1206.172(f)(1)(i) (two times) | MMS | ONRR.
§ 1206.172(f)(1)(i) | § 206.174 | § 1206.174.
§ 1206.172(f)(1)(ii) | MMS | ONRR.
§ 1206.172(f)(2) introductory text (two times) | MMS | ONRR.
§ 1206.172(f)(2)(i) (two times) | MMS | ONRR.
§ 1206.172(f)(2)(i) | § 206.172 | § 1206.172.
§ 1206.172(f)(3) | MMS | ONRR.
§ 1206.172(g)(1)(i) (two times) | MMS | ONRR.
§ 1206.172(g)(1)(ii) (two times) | MMS | ONRR.
§ 1206.172(g)(1)(ii) | § 206.174 | § 1206.174.
§ 1206.172(g)(1)(iii) | MMS | ONRR.
§ 1206.172(g)(2)(i) (two times) | MMS | ONRR.
§ 1206.172(g)(2)(ii) (two times) | MMS | ONRR.
§ 1206.172(g)(2)(ii) | § 206.172 | § 1206.172.
§ 1206.173(a)(1) | § 206.176 | § 1206.176.
§ 1206.173(a)(1) | § 206.176(a) | § 1206.176(a).
§ 1206.173(a)(2) introductory text | MMS-designated | ONRR-designated.
§ 1206.173(a)(2)(i) introductory text | MMS | ONRR.
§ 1206.173(a)(2)(i) introductory text | MMS-designated | ONRR-designated.
§ 1206.173(a)(2)(i)(H) | MMS-designated | ONRR-designated.
§ 1206.173(a)(2)(i)(Q) (two times) | MMS | ONRR.
§ 1206.173(a)(2)(ii) (two times) | MMS | ONRR.
§ 1206.173(b)(1) | § 206.172 or § 206.174 | § 1206.172 or § 1206.174.
§ 1206.173(b)(2) introductory text | § 206.172 or § 206.174 | § 1206.172 or § 1206.174.
§ 1206.173(b)(2)(i) | § 206.172 or § 206.174 | § 1206.172 or § 1206.174.
§ 1206.174(a)(1)(i) | MMS | ONRR.
§ 1206.174(a)(1)(ii) | § 206.174(b) | § 1206.174(b).
§ 1206.174(a)(1)(ii) | § 206.172 | § 1206.172.
§ 1206.174(a)(1)(iii) | § 206.172 | § 1206.172.
§ 1206.174(a)(3) | § 206.176 | § 1206.176.
§ 1206.174(a)(4)(ii) (three times) | MMS | ONRR.
§ 1206.174(a)(4)(ii) | 30 CFR 218.54 | § 1218.54 of this chapter.
§ 1206.174(a)(4)(ii) | MMS | ONRR.
§ 1206.174(a)(4)(iii) | § 206.173 | § 1206.173.
§ 1206.174(a)(4)(iii) (three times) | MMS | ONRR.
§ 1206.174(a)(4)(iv) (four times) | MMS | ONRR.
§ 1206.174(b)(1)(ii) (two times) | MMS | ONRR.
§ 1206.174(b)(1)(iii) (three times) | MMS | ONRR.
§ 1206.174(b)(1)(iv) | MMS | ONRR.
§ 1206.174(b)(2) | MMS | ONRR.
§ 1206.174(d)(1) | MMS | ONRR.
§ 1206.174(d)(2) | MMS | ONRR.
§ 1206.174(e) (three times) | MMS | ONRR.
§ 1206.174(e) | 30 CFR 218.54 | § 1218.54 of this chapter.
§ 1206.174(f) (four times) | MMS | ONRR.
§ 1206.174(g)(2) introductory text | § 206.173 | § 1206.173.
§ 1206.174(j) (two times) | MMS | ONRR.
§ 1206.174(k) | MMS | ONRR.
§ 1206.175(d)(4) (two times) | MMS | ONRR.
§ 1206.176(a)(1)(i) | § 206.172 or § 206.174 | § 1206.172 or § 1206.174.
§ 1206.176(a)(1)(ii) | § 206.52 | § 1206.52.
§ 1206.176(a)(2) | § 206.172 or § 206.174 | § 1206.172 or § 1206.174.
§ 1206.176(b) | § 206.173 | § 1206.173.
§ 1206.176(c) | MMS | ONRR.
§ 1206.176(d) | § 206.173 | § 1206.173.
§ 1206.176(e) | § 206.173(b)(4)(ii) | § 1206.173(b)(4)(ii).
§ 1206.177(a) | § 206.174 | § 1206.174.
§ 1206.177(b) | § 206.178 | § 1206.178.
§ 1206.177(c)(2) (two times) | MMS | ONRR.
§ 1206.177(c)(3) | MMS | ONRR.
§ 1206.177(d) | MMS | ONRR.
§ 1206.177(d) | 30 CFR 218.54 | § 1218.54 of this chapter.
§ 1206.178(a)(1)(i) (two times) | MMS | ONRR.
§ 1206.178(a)(1)(ii) (two times) | MMS | ONRR.
§ 1206.178(a)(1)(iii) (three times) | MMS | ONRR.
§ 1206.178(a)(2)(i) | MMS | ONRR.
§ 1206.178(a)(2)(ii) introductory text (two times) | MMS | ONRR.
§ 1206.178(a)(3)(i) (two times) | MMS | ONRR.
§ 1206.178(a)(3)(ii) (two times) | MMS | ONRR.
§ 1206.178(a)(5) (two times) | MMS | ONRR.
§ 1206.178(b)(1)(ii) (four times) | MMS | ONRR.
§ 1206.178(b)(2)(iv) introductory text | MMS | ONRR.
§ 1206.178(b)(2)(iv)(A) | MMS | ONRR.
§ 1206.178(b)(3)(i) introductory text | MMS | ONRR.
§ 1206.178(b)(3)(ii) introductory text (two times) | MMS | ONRR.
§ 1206.178(b)(4) | MMS | ONRR.
§ 1206.178(b)(5) (four times) | MMS | ONRR.
§ 1206.178(d)(1) (two times) | MMS | ONRR.
§ 1206.178(d)(2) | MMS | ONRR.
§ 1206.178(e) | 30 CFR 218.54 | § 1218.54 of this chapter.
§ 1206.178(f)(9) | MMS | ONRR.
§ 1206.178(f)(9) | § 206.174(h) | § 1206.174(h).
§ 1206.179(a) | § 206.174 | § 1206.174.
§ 1206.179(c) | § 206.174 | § 1206.174.
§ 1206.179(c) | § 206.177 | § 1206.177.
§ 1206.179(d) | MMS | ONRR.
§ 1206.179(e) | part 206 | part 1206.
§ 1206.179(g) | MMS | ONRR.
§ 1206.179(g) | 30 CFR 218.54 | § 1218.54 of this chapter.
§ 1206.180(a)(1)(i) (two times) | MMS | ONRR.
§ 1206.180(a)(1)(ii) (two times) | MMS | ONRR.
§ 1206.180(a)(1)(iii) (three times) | MMS | ONRR.
§ 1206.180(a)(3) (four times) | MMS | ONRR.
§ 1206.180(b)(1)(ii) (four times) | MMS | ONRR.
§ 1206.180(b)(2)(iv) introductory text | MMS | ONRR.
§ 1206.180(b)(2)(iv)(A) (two times) | MMS | ONRR.
§ 1206.180(b)(3) | MMS | ONRR.
§ 1206.180(c)(1) (two times) | MMS | ONRR.
§ 1206.180(c)(2) | MMS | ONRR.
§ 1206.180(d) | 30 CFR 218.54 | § 1218.54 of this chapter.
§ 1206.181 introductory text | § 206.176 | § 1206.176.
§ 1206.181(c) (five times) | MMS | ONRR.
§ 1206.181(c) | part 290 | part 1290.
§ 1206.181(d) | §§ 206.179 and 206.180 | §§ 1206.179 and 1206.180.
§ 1206.250(c) | Minerals Management Service | Office of Natural Resources Revenue.
§ 1206.250(c) | (MMS) | (ONRR).
§ 1206.251, definition of Arm's-length contract, paragraph (c) (two times) | MMS | ONRR.
§ 1206.252 | 30 CFR 210 | part 1210.
§ 1206.255(a) | MMS | ONRR.
§ 1206.255(b) | MMS | ONRR.
§ 1206.255(c) | § 206.256(d) | § 1206.256(d).
§ 1206.256(d) | §§ 206.257 | §§ 1206.257.
§ 1206.257(a) | §§ 206.258 through 206.262 | §§ 1206.258 through 1206.262.
§ 1206.257(a) | § 206.265 | § 1206.265.
§ 1206.257(b)(2) (two times) | MMS | ONRR.
§ 1206.257(b)(3) | The MMS | ONRR.
§ 1206.257(b)(3) (three times) | MMS | ONRR.
§ 1206.257(b)(4) | The MMS | ONRR.
§ 1206.257(b)(5) | MMS's | ONRR's.
§ 1206.257(d)(1) | MMS's | ONRR's.
§ 1206.257(d)(1) | MMS | ONRR.
§ 1206.257(d)(2) | MMS | ONRR.
§ 1206.257(d)(3) | MMS | ONRR.
§ 1206.257(d)(3) | Associate Director | Director.
§ 1206.257(d)(3) | Minerals Revenue Management | Office of Natural Resources Revenue.
§ 1206.257(e) (three times) | MMS | ONRR.
§ 1206.257(e) | 30 CFR 218.202 | § 1218.202 of this chapter.
§ 1206.257(f) (six times) | MMS | ONRR.
§ 1206.257(g) | §§ 206.258 through 206.262 and § 206.265 | §§ 1206.258 through 1206.262 and § 1206.65.
§ 1206.257(i) | MMS | ONRR.
§ 1206.257(j) | MMS | ONRR.
§ 1206.257(k) | MMS | ONRR.
§ 1206.257(k) | § 206.265 | § 1206.265.
§ 1206.258(a) (two times) | § 206.257 | § 1206.257.
§ 1206.258(a) | MMS | ONRR.
§ 1206.258(b) | MMS | ONRR.
§ 1206.258(b) | 30 CFR 218.202 | § 1218.202 of this chapter.
§ 1206.259(a)(1) | MMS's | ONRR's.
§ 1206.259(a)(2) (two times) | MMS | ONRR.
§ 1206.259(a)(3) | The MMS | ONRR.
§ 1206.259(a)(3) (three times) | MMS | ONRR.
§ 1206.259(b)(1) | MMS | ONRR.
§ 1206.259(b)(2)(iv) introductory text | MMS | ONRR.
§ 1206.259(b)(2)(iv)(A) | MMS | ONRR.
§ 1206.259(b)(2)(iv)(B) | The MMS | ONRR.
§ 1206.259(c)(1)(i) | MMS | ONRR.
§ 1206.259(c)(1)(ii) | The MMS | ONRR.
§ 1206.259(c)(1)(ii) | MMS | ONRR.
§ 1206.259(c)(2)(i) | MMS | ONRR.
§ 1206.259(c)(2)(iii) (two times) | MMS | ONRR.
§ 1206.259(d)(3) | 30 CFR 218.202 | § 1218.202 of this chapter.
§ 1206.259(e)(1) | 30 CFR 218.202 | § 1218.202 of this chapter.
§ 1206.261(a) introductory text | § 206.257 | § 1206.257.
§ 1206.261(a) introductory text | MMS | ONRR.
§ 1206.261(d) | MMS | ONRR.
§ 1206.261(d) | 30 CFR 218.202 | § 1218.202 of this chapter.
§ 1206.262(a)(2) (two times) | MMS | ONRR.
§ 1206.262(a)(3) | The MMS | ONRR.
§ 1206.262(a)(3) (three times) | MMS | ONRR.
§ 1206.262(b)(1) | MMS | ONRR.
§ 1206.262(b)(2)(iv) introductory text | The MMS | ONRR.
§ 1206.262(b)(2)(iv)(A) | MMS | ONRR.
§ 1206.262(b)(2)(iv)(B) | The MMS | ONRR.
§ 1206.262(b)(3) introductory text (four times) | MMS | ONRR.
§ 1206.262(b)(3)(i) | MMS | ONRR.
§ 1206.262(c)(1)(i) | MMS | ONRR.
§ 1206.262(c)(1)(ii) | The MMS | ONRR.
§ 1206.262(c)(1)(ii) | MMS | ONRR.
§ 1206.262(c)(2)(i) | MMS | ONRR.
§ 1206.262(c)(2)(iii) (two times) | MMS | ONRR.
§ 1206.262(d)(3) | 30 CFR 218.202 | § 1218.202 of this chapter.
§ 1206.262(e)(1) | 30 CFR 218.202 | § 1218.202 of this chapter.
§ 1206.262(e)(1) | MMS | ONRR.
§ 1206.262(e)(2) | MMS | ONRR.
§ 1206.264 (three times) | MMS | ONRR.
§ 1206.265 introductory text | § 206.257(h) | § 1206.257(h).
§ 1206.265 introductory text | MMS | ONRR.
§ 1206.265(a) | § 206.257(c)(2)(i-iv) | § 1206.257(c)(2)(i)-(iv).
§ 1206.265(b) | § 206.257(c)(2)(v) | § 1206.257(c)(2)(v).
§ 1206.265(b) | MMS-approved | ONRR-approved.
§ 1206.265(b) | § 206.259(b)(2)(v) | § 1206.259(b)(2)(v).
§ 1206.350(b) | MMS | ONRR.
§ 1206.350(c)(2) introductory text | MMS | ONRR.
§ 1206.350(c)(2) introductory text | Land and Minerals Management | Policy, Management and Budget.
§ 1206.350(c)(2)(i) | MMS | ONRR.
§ 1206.350(c)(2)(ii) | § 206.364 | § 1206.364.
§ 1206.351, definition of Affiliate, paragraph (1) | MMS | ONRR.
§ 1206.351, definition of Affiliate, paragraph (2) | MMS | ONRR.
§ 1206.352(a)(2) | § 206.361 | § 1206.361.
§ 1206.352(b)(1)(i) | § 206.353 and § 206.354 | § 1206.353 and § 1206.354.
§ 1206.352(b)(1)(i) | § 206.361 | § 1206.361.
§ 1206.352(b)(1)(ii) | MMS | ONRR.
§ 1206.352(b)(1)(ii) | § 206.364 | § 1206.364.
§ 1206.352(b)(2) | § 206.361 | § 1206.361.
§ 1206.353(a) introductory text | § 206.352(b)(1)(i) | § 1206.352(b)(1)(i).
§ 1206.353(b)(1)(ii) | § 206.354(b)(1) | § 1206.354(b)(1).
§ 1206.353(b)(1)(ii) | MMS | ONRR.
§ 1206.353(g) | MMS | ONRR.
§ 1206.353(h)(1) | MMS | ONRR.
§ 1206.353(m)(2) | § 218.302 | § 1218.302 of this chapter.
§ 1206.353(n) (two times) | MMS | ONRR.
§ 1206.353(n) | part 212 | part 1212.
§ 1206.354(a) | § 206.352(b)(1)(i) | § 1206.352(b)(1)(i).
§ 1206.354(b)(1)(ii) | § 206.353(b)(1) | § 1206.363(b)(1).
§ 1206.354(b)(1)(ii) | MMS | ONRR.
§ 1206.354(g) | MMS | ONRR.
§ 1206.354(h)(1) | MMS | ONRR.
§ 1206.354(m)(2) | § 218.302 | § 1218.302 of this chapter.
§ 1206.354(n) (two times) | MMS | ONRR.
§ 1206.354(n) | part 212 | part 1212.
§ 1206.355 | § 206.361 | § 1206.361.
§ 1206.356(a)(2) | MMS | ONRR.
§ 1206.356(a)(3) | MMS | ONRR.
§ 1206.356(a)(3) | Land and Minerals Management | Policy, Management and Budget.
§ 1206.356(a)(3) | § 206.364 | § 1206.364.
§ 1206.356(b)(1)(iii) | The MMS | ONRR.
§ 1206.356(b)(3) introductory text | MMS | ONRR.
§ 1206.356(b)(3)(i) | § 218.302 | § 1218.302 of this chapter.
§ 1206.356(b)(3)(ii) | MMS | ONRR.
§ 1206.356(c) | MMS | ONRR.
§ 1206.357(b)(1) | §§ 206.358 and 206.359 | §§ 1206.358 and 1206.359.
§ 1206.357(b)(1) | § 206.361 | § 1206.361.
§ 1206.357(b)(3) | MMS | ONRR.
§ 1206.358(d)(1) | MMS | ONRR.
§ 1206.358(d)(2) (two times) | MMS | ONRR.
§ 1206.358(d)(2) | part 212 | part 1212.
§ 1206.358(e) | MMS | ONRR.
§ 1206.358(e) | § 218.302 | § 1218.302 of this chapter.
§ 1206.359(a)(1) (two times) | MMS | ONRR.
§ 1206.359(a)(2) (four times) | MMS | ONRR.
§ 1206.359(g) | MMS | ONRR.
§ 1206.359(h)(1) | MMS | ONRR.
§ 1206.359(l)(2) | § 218.302 | § 1218.302 of this chapter.
§ 1206.360 introductory text | part 212 | part 1212.
§ 1206.360(b) (two times) | MMS | ONRR.
§ 1206.361(section heading) | MMS | ONRR.
§ 1206.361(a)(1) (two times) | MMS | ONRR.
§ 1206.361(a)(2) | MMS | ONRR.
§ 1206.361(a)(2) | § 218.302 | § 1218.302 of this chapter.
§ 1206.361(b) (four times) | MMS | ONRR.
§ 1206.361(b) | The MMS | ONRR.
§ 1206.361(d) | The MMS | ONRR.
§ 1206.363 (section heading) | MMS | ONRR.
§ 1206.363 (two times) | MMS | ONRR.
§ 1206.364(a) introductory text | MMS | ONRR.
§ 1206.364(a)(3) | MMS | ONRR.
§ 1206.364(b)(1) | Land and Minerals Management | Policy, Management and Budget.
§ 1206.364(b)(2) | The MMS | ONRR.
§ 1206.364(b)(3) | The MMS | ONRR.
§ 1206.364(b)(3) (two times) | MMS | ONRR.
§ 1206.364(c)(1) | Land and Minerals Management | Policy, Management and Budget.
§ 1206.364(c)(1) | MMS | ONRR.
§ 1206.364(c)(2) | § 218.302 | § 1218.302 of this chapter.
§ 1206.364(d) introductory text (two times) | MMS | ONRR.
§ 1206.364(d) introductory text | The MMS | ONRR.
§ 1206.364(d) introductory text | MMS-issued | ONRR-issued.
§ 1206.364(d)(1) | MMS | ONRR.
§ 1206.364(d)(1) | part 290 | part 1290.
§ 1206.364(d)(2) | part 290 | part 1290.
§ 1206.364(e) | MMS | ONRR.
§ 1206.364(f) | The MMS | ONRR.
§ 1206.364(g) introductory text | The MMS | ONRR.
§ 1206.364(h) | The MMS | ONRR.
§ 1206.364(h) | § 206.365 | § 1206.365.
§ 1206.365 (section heading) | MMS | ONRR.
§ 1206.365 (two times) | MMS | ONRR.
§ 1206.366 | The MMS | ONRR.
§ 1206.451, definition of Allowance (three times) | MMS-initially | ONRR-initially.
§ 1206.451, definition of Arm's length contract (two times) | MMS | ONRR.
§ 1206.451, definition of MMS | MMS | ONRR.
§ 1206.451, definition of MMS | Minerals Management Service | Office of Natural Resources Revenue.
§ 1206.453 | part 210 | part 1210.
§ 1206.454(a) | MMS | ONRR.
§ 1206.454(b) | MMS | ONRR.
§ 1206.454(c) | § 206.455(d) | § 1206.455(d).
§ 1206.455(d) | § 206.456 | § 1206.456.
§ 1206.456(a) | §§ 206.457 through 206.461 | §§ 1206.457 through 1206.461.
§ 1206.456(a) | § 206.464 | § 1206.464.
§ 1206.456(b)(2) (two times) | MMS | ONRR.
§ 1206.456(b)(3) (four times) | MMS | ONRR.
§ 1206.456(b)(4) | MMS | ONRR.
§ 1206.456(b)(5) | MMS' | ONRR.
§ 1206.456(d)(1) | MMS' | ONRR.
§ 1206.456(d)(1) | MMS | ONRR.
§ 1206.456(d)(2) | MMS | ONRR.
§ 1206.456(d)(3) | MMS | ONRR.
§ 1206.456(d)(3) | Associate Director | Director.
§ 1206.456(d)(3) | Minerals Revenue Management | Office of Natural Resources Revenue.
§ 1206.456(e) (three times) | MMS | ONRR.
§ 1206.456(f) (six times) | MMS | ONRR.
§ 1206.456(g) | §§ 206.457 through 206.461 and § 206.464 | §§ 1206.457 through 1206.461 and § 1206.464.
§ 1206.456(i) | MMS | ONRR.
§ 1206.456(j) | MMS | ONRR.
§ 1206.456(k) | §§ 206.457 through 206.461 and § 206.464 | §§ 1206.457 through 1206.461 and § 1206.464.
§ 1206.456(k) (two times) | MMS | ONRR.
§ 1206.457(a) (two times) | § 206.456 | § 1206.456.
§ 1206.457(a) | MMS | ONRR.
§ 1206.457(b) | MMS | ONRR.
§ 1206.457(b) | 30 CFR 218.202 | § 1218.202 of this chapter.
§ 1206.458(a)(1) | MMS' | ONRR.
§ 1206.458(a)(1) (two times) | MMS | ONRR.
§ 1206.458(a)(2) (two times) | MMS | ONRR.
§ 1206.458(a)(3) (four times) | MMS | ONRR.
§ 1206.458(b)(1) (five times) | MMS | ONRR.
§ 1206.458(b)(2)(iv) introductory text | MMS | ONRR.
§ 1206.458(b)(2)(iv)(A) | MMS | ONRR.
§ 1206.458(b)(2)(iv)(B) | MMS | ONRR.
§ 1206.458(c)(1)(iii) | MMS | ONRR.
§ 1206.458(c)(1)(iv) (two times) | MMS | ONRR.
§ 1206.458(c)(1)(v) | MMS | ONRR.
§ 1206.458(c)(1)(vi) | MMS | ONRR.
§ 1206.458(c)(2)(iii) (two times) | MMS | ONRR.
§ 1206.458(c)(2)(v) | MMS | ONRR.
§ 1206.458(c)(2)(vi) (two times) | MMS | ONRR.
§ 1206.458(c)(2)(vii) | MMS | ONRR.
§ 1206.458(c)(3) | MMS | ONRR.
§ 1206.458(c)(4) | MMS | ONRR.
§ 1206.458(d)(3) | 30 CFR 218.202 | § 1218.202 of this chapter.
§ 1206.458(e)(1) | 30 CFR 218.202 | § 1218.202.
§ 1206.458(e)(2) | MMS | ONRR.
§ 1206.460(a) introductory text | § 206.456 | § 1206.456.
§ 1206.460(a) introductory text | MMS | ONRR.
§ 1206.460(d) | MMS | ONRR.
§ 1206.460(d) | 30 CFR 218.202 | § 1218.202 of this chapter.
§ 1206.461(a)(1) | MMS' | ONRR's.
§ 1206.461(a)(1) (two times) | MMS | ONRR.
§ 1206.461(a)(2) (two times) | MMS | ONRR.
§ 1206.461(a)(3) (four times) | MMS | ONRR.
§ 1206.461(b)(1) (five times) | MMS | ONRR.
§ 1206.461(b)(2)(iv) introductory text | MMS | ONRR.
§ 1206.461(b)(2)(iv)(A) | MMS | ONRR.
§ 1206.461(b)(2)(iv)(B) | MMS | ONRR.
§ 1206.461(b)(3) introductory text (four times) | MMS | ONRR.
§ 1206.461(b)(3)(i) | MMS | ONRR.
§ 1206.461(c)(1)(iii) | MMS | ONRR.
§ 1206.461(c)(1)(iv) (two times) | MMS | ONRR.
§ 1206.461(c)(1)(v) | MMS | ONRR.
§ 1206.461(c)(1)(vi) | MMS | ONRR.
§ 1206.461(c)(2)(iii) (two times) | MMS | ONRR.
§ 1206.461(c)(2)(v) | MMS | ONRR.
§ 1206.461(c)(2)(vi) (two times) | MMS | ONRR.
§ 1206.461(c)(2)(vii) | MMS | ONRR.
§ 1206.461(c)(3) | MMS | ONRR.
§ 1206.461(c)(4) | MMS | ONRR.
§ 1206.461(d)(3) | 30 CFR 218.202 | § 1218.202 of this chapter.
§ 1206.461(e)(1) | 30 CFR 218.202 | § 1218.202 of this chapter.
§ 1206.461(e)(2) | MMS | ONRR.
§ 1206.463 (three times) | MMS | ONRR.
§ 1206.464 introductory text | § 206.456(h) | § 1206.456(h).
§ 1206.464 introductory text | MMS | ONRR.
§ 1206.464(a) | § 206.456(c)(2)(i) through (iv) | § 1206.456(c)(2)(i) through (iv).
§ 1206.464(b) | § 206.456(c)(2)(v) | § 1206.456(c)(2)(v).
§ 1206.464(b) | MMS-approved | ONRR-approved.
§ 1206.464(b) | § 206.458(b)(2)(v) | § 1206.458(b)(2)(v).

§ 1206.171 [Amended]

17A. In newly redesignated § 1206.171, place the newly redesignated definition of “ONRR” in alphabetical order.

§ 1206.451 [Amended]

17B. In newly redesignated § 1206.451, place the newly redesignated definition of “ONRR” in alphabetical order

Chapter II, Subchapter A

PART 207—[REDESIGNATED AS PART 1207]

18. Transfer 30 CFR part 207 from chapter II, subchapter A, to chapter XII, subchapter A, and redesignate as 30 CFR part 1207.

Chapter XII, Subchapter A

PART 1207—SALES AGREEMENTS OR CONTRACTS GOVERNING THE DISPOSAL OF LEASE PRODUCTS

19. The authority citation for the newly redesignated 30 CFR part 1207 continues to read as follows:

Authority: 5 U.S.C. 301 et seq.; 25 U.S.C. 396 et seq.; 25 U.S.C. 396a et seq.; 25 U.S.C. 2101 et seq.; 30 U.S.C. 181 et seq.; 30 U.S.C. 351 et seq.; 30 U.S.C. 1001 et seq.; 30 U.S.C. 1701 et seq.; 31 U.S.C. 3716 et seq.; 31 U.S.C. 9701; 43 U.S.C. 1301 et seq.; 43 U.S.C. 1331 et seq.; and 43 U.S.C. 1801 et seq.

20. Amend the newly redesignated part 1207 as follows:

Amendment Table for Part 1207
Amend | By removing the reference to: | And adding in its place:
§ 1207.1(b) | Minerals Management Service | Bureau of Ocean Energy Management, Regulation, and Enforcement.
§ 1207.2 | part 206 | part 1206.
§ 1207.3 | § 207.5 | § 1207.5.
§ 1207.4(a) | Minerals Management Service | Bureau of Ocean Energy Management, Regulation, and Enforcement (BOEMRE).
§ 1207.5 | MMS, State or Indian representatives, other MMS or BLM officials | Office of Natural Resources Revenue (ONRR), State or Indian representatives, BOEMRE or BLM officials.
§ 1207.5 (2 times) | MMS | ONRR.
§ 1207.5 | part 212 | part 1212.

Chapter II, Subchapter A

PART 208—[REDESIGNATED AS PART 1208]

21. Transfer 30 CFR part 208 from chapter II, subchapter A, to chapter XII, subchapter A, and redesignate as 30 CFR part 1208.

Chapter XII, Subchapter A

PART 1208—SALE OF FEDERAL ROYALTY OIL

22. The authority citation for the newly redesignated 30 CFR part 1208 continues to read as follows:

Authority: 5 U.S.C. 301 et seq.; 30 U.S.C. 181 et seq., 351 et seq., 1701 et seq.; 31 U.S.C. 9701; 41 U.S.C. 601 et seq.; 43 U.S.C. 1301 et seq., 1331 et seq., and 1801 et seq.

23. Amend the newly redesignated part 1208 as follows:

Amendment Table for Part 1208
Amend | By removing the reference to: | And adding in its place:
§ 1208.2, definition of Area or Region | MMS | ONRR.
§ 1208.2, definition of Contracting officer's decision | MMS | ONRR.
§ 1208.2, definition of Delivery point | § 208.8(a) | § 208.8(a).
§ 1208.2, definition of Director | MMS | ONRR.
§ 1208.2, definition of MMS | MMS | ONRR.
§ 1208.2, definition of MMS | Minerals Management Service | Office of Natural Resources Revenue.
§ 1208.2, definition of Preference eligible refiner | § 208.7(g) | § 208.7(g).
§ 1208.2, definition of Reallocation | MMS | ONRR.
§ 1208.4(a) | 30 CFR 208.5 | § 1208.5.
§ 1208.4(b)(1) | MMS | ONRR.
§ 1208.4(b)(2) | part 206 | part 1206.
§ 1208.4(c) | MMS | ONRR.
§ 1208.4(d) (2 times) | MMS | ONRR.
§ 1208.5(2 times) | MMS | ONRR.
§ 1208.5 | 30 CFR 208.2 and 208.7 | § 1208.2 and § 1208.7.
§ 1208.6(a) (3 times) | MMS | ONRR.
§ 1208.6(b)(5) | § 208.2 | § 1208.2.
§ 1208.7(a) (2 times) | MMS | ONRR.
§ 1208.7(b) | MMS | ONRR.
§ 1208.7(c) | MMS | ONRR.
§ 1208.7(e) | MMS | ONRR.
§ 1208.7(g) (2 times) | MMS | ONRR.
§ 1208.7(h) (2 times) | MMS | ONRR.
§ 1208.8(a) | MMS | ONRR.
§ 1208.8(b) (4 times) | MMS | ONRR.
§ 1208.8(b) | part 206 | part 1206.
§ 1208.8(c) | MMS | ONRR.
§ 1208.9(a) | MMS | ONRR.
§ 1208.10(a) | MMS | ONRR.
§ 1208.10(b) | MMS | ONRR.
§ 1208.10(c) | MMS | ONRR.
§ 1208.10(d) (2 times) | MMS | ONRR.
§ 1208.10(e) (4 times) | MMS | ONRR.
§ 1208.10(e) | § 208.2 | § 1208.2.
§ 1208.11(a) | MMS-specified | ONRR-specified.
§ 1208.11(a) | MMS | ONRR.
§ 1208.11(b) (3 times) | MMS | ONRR.
§ 1208.11(c) (3 times) | MMS-specified | ONRR-specified.
§ 1208.11(d) | MMS-specified | ONRR-specified.
§ 1208.11(d) (4 times) | MMS | ONRR.
§ 1208.11(e) (2 times) | MMS | ONRR.
§ 1208.12(a) (3 times) | MMS | ONRR.
§ 1208.12(a) | 30 CFR 218.51 | § 1218.51 of this chapter.
§ 1208.12(a) | § 208.13 | § 1208.13.
§ 1208.12(a) | 30 CFR 218.51 | § 1218.51 of this chapter.
§ 1208.12(b)(1) | MMS | ONRR.
§ 1208.12(b)(2) | MMS | ONRR.
§ 1208.12(b)(2) | 30 CFR 218.54 | § 1218.54 of this chapter.
§ 1208.12(c) (2 times) | MMS | ONRR.
§ 1208.12(c) | MMS-specified | ONRR-specified.
§ 1208.12(c) | § 208.11 | § 1208.11.
§ 1208.12(d) (2 times) | MMS | ONRR.
§ 1208.12(d) | MMS-specified | ONRR-specified.
§ 1208.12(d) | part 243 | part 1243.
§ 1208.13 | MMS | ONRR.
§ 1208.13 | 30 CFR 210.52 | § 1210.52 of this chapter.
§ 1208.15 | MMS | ONRR.

§ 1208.2 [Amended]

23A. In newly redesignated § 1208.2, place the newly redesignated definition of “ONRR” in alphabetical order.

Chapter II, Subchapter A

PART 210—[REDESIGNATED AS PART 1210]

24. Transfer 30 CFR part 210 from chapter II, subchapter A, to chapter XII, subchapter A, and redesignate as 30 CFR part 1210.

Chapter XII, Subchapter A

PART 1210—FORMS AND REPORTS

25. The authority citation for the newly redesignated 30 CFR part 1210 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

26. Amend the newly redesignated part 1210 as follows:

Amendment Table for Part 1210
Amend | By removing the reference to: | And adding in its place:
§ 1210.01 | Minerals Management Service (MMS), Minerals Revenue Management (MRM) | Office of Natural Resources Revenue (ONRR).
§ 1210.01 | MMS | ONRR.
§ 1210.02 | MMS | ONRR.
§ 1210.10 introductory text (two times) | MMS | ONRR.
§ 1210.10 introductory text | www.mrm.mms.gov | www.mrm.boemre.gov.
§ 1210.10, Left table column for “1010-0073” | Part 220 | Part 1220.
§ 1210.10, Left table column for “1010-0087” | Parts 227, 228, and 229 | Parts 1227, 1228, and 1229.
§ 1210.10, Left table column for “1010-0090” | Part 216 | Part 1216.
§ 1210.10, Left table column for “1010-0103” | Parts 202 and 206 | Parts 1202 and 1206.
§ 1210.10, Left table column for “1010-0107” | Part 218 | Part 1218.
§ 1210.10, Left table column for “1010-0119” | Part 208 | Part 1208.
§ 1210.10, Left table column for “1010-0120” | Parts 202, 206, 210, 212, 217, and 218 | Parts 1202, 1206, 1210, 1212, 1217, and 1218.
§ 1210.10, Left table column for “1010-0122” | Part 243 | Part 1243.
§ 1210.10, Left table column for “1010-0136” | Parts 202 and 206 | Parts 1202 and 1206.
§ 1210.10, Left table column for “1010-0139” | Parts 210 and 216 | Parts 1210 and 1216.
§ 1210.10, Left table column for “1010-0140” | Part 210 | Part 1210.
§ 1210.10, Left table column for “1010-0155” | Part 204 | Part 1204.
§ 1210.20 | www.mrm.mms.gov | www.mrm.boemre.gov.
§ 1210.20 | MMS | ONRR.
§ 1210.20 | Minerals Management Services | Bureau of Ocean Energy Management, Regulation, and Enforcement.
§ 1210.20 | Mail Stop 5438, 1849 C Street, NW, Washington, DC 20240 | 381 Elden Street, Herndon, VA 20170.
§ 1210.21(a) introductory text | www.mrm.mms.gov | www.mrm.boemre.gov.
§ 1210.21(a) introductory text | § 210.56 | § 1210.56.
§ 1210.21(a) introductory text (two times) | MMS | ONRR.
§ 1210.21(b) (two times) | MMS | ONRR.
§ 1210.21(d) | MMS | ONRR.
§ 1210.30 (two times) | MMS | ONRR.
§ 1210.30 | Part 241 | Part 1241.
§ 1210.40 (section heading) | MMS | ONRR.
§ 1210.40 | MMS | ONRR.
§ 1210.51(a) (two times) | MMS | ONRR.
§ 1210.51(b) (three times) | MMS | ONRR.
§ 1210.51(b) | § 210.56 | § 1210.56.
§ 1210.52 introductory text | MMS | ONRR.
§ 1210.53(a) | § 218.50 | § 1218.50 of this chapter.
§ 1210.53(b) | § 218.50 | § 1218.50 of this chapter.
§ 1210.54(a) | § 210.55(a) | § 1210.55(a).
§ 1210.54(b) introductory text | MMS | ONRR.
§ 1210.54(b)(2) (two times) | MMS | ONRR.
§ 1210.54(c) (two times) | MMS | ONRR.
§ 1210.54(c) | § 210.56 | § 1210.56.
§ 1210.55(a) introductory text | MMS | ONRR.
§ 1210.55(a)(1) | MMS | ONRR.
§ 1210.55(b) introductory text | MMS | ONRR.
§ 1210.55(b)(1) | Minerals Management Service | Office of Natural Resources Revenue.
§ 1210.55(b)(2) | Minerals Management Service | Office of Natural Resources Revenue.
§ 1210.56(a) (two times) | MMS | ONRR.
§ 1210.56(a) | www.mrm.mms.gov | www.mrm.boemre.gov.
§ 1210.56(b) | MMS | ONRR.
§ 1210.56(c) | www.mrm.mms.gov | www.mrm.boemre.gov.
§ 1210.56(c) | MMS | ONRR.
§ 1210.101(b) (three times) | MMS | ONRR.
§ 1210.101(b) | § 210.106 | § 1210.106.
§ 1210.102(a) introductory text | MMS | ONRR.
§ 1210.102(a)(1)(ii) | MMS | ONRR.
§ 1210.102(a)(2)(i) | MMS | ONRR.
§ 1210.103(a) | MMS | ONRR.
§ 1210.103(b) | MMS | ONRR.
§ 1210.103(b) | § 210.105 | § 1210.105.
§ 1210.104(a) introductory text | § 210.105 | § 1210.105.
§ 1210.104(b) introductory text | MMS | ONRR.
§ 1210.104(b)(2) (two times) | MMS | ONRR.
§ 1210.104(c) (two times) | MMS | ONRR.
§ 1210.104(c) | § 210.106 | § 1210.106.
§ 1210.105(a) introductory text | MMS | ONRR.
§ 1210.105(a)(1) | MMS | ONRR.
§ 1210.105(b) introductory text | MMS | ONRR.
§ 1210.105(b)(1) | Minerals Management Service | Office of Natural Resources Revenue.
§ 1210.105(b)(2) | Minerals Management Service | Office of Natural Resources Revenue.
§ 1210.106(a) (three times) | MMS | ONRR.
§ 1210.106(b) | MMS | ONRR.
§ 1210.106(c) | MMS | ONRR.
§ 1210.150 | § 210.10 | § 1210.10.
§ 1210.151(a) | Part 206 | Part 1206.
§ 1210.151(a) | MMS | ONRR.
§ 1210.151(b) | MMS | ONRR.
§ 1210.151 (c)(2) | Minerals Management Service | Office of Natural Resources Revenue.
§ 1210.151(c)(3) | Minerals Management Service | Office of Natural Resources Revenue.
§ 1210.151(c)(3) | MMS | ONRR.
§ 1210.152(a) introductory text | MMS | ONRR.
§ 1210.152(a)(1) | § 206.55 | § 1206.55.
§ 1210.152(a)(2) | § 206.180 | § 1206.180.
§ 1210.152(a)(3) | § 206.178 | § 1206.178.
§ 1210.152(b) | MMS | ONRR.
§ 1210.152(c)(1) | Minerals Management Service | Office of Natural Resources Revenue.
§ 1210.152(c)(2) | Minerals Management Service | Office of Natural Resources Revenue.
§ 1210.153(a) introductory text | § 206.172 | § 1206.172.
§ 1210.153(b) | MMS | ONRR.
§ 1210.153(c)(1) | Minerals Management Service | Office of Natural Resources Revenue.
§ 1210.153(c)(2) | Minerals Management Service | Office of Natural Resources Revenue.
§ 1210.154(a) | Part 206 | Part 1206.
§ 1210.154(a) (two times) | MMS | ONRR.
§ 1210.154(c)(1) | Minerals Management Service | Office of Natural Resources Revenue.
§ 1210.154(c)(2) | Minerals Management Service | Office of Natural Resources Revenue.
§ 1210.155(b) introductory text | MMS | ONRR.
§ 1210.155(b)(1) | MMS | ONRR.
§ 1210.155(b)(2)(i) | Minerals Management Service | Office of Natural Resources Revenue (ONRR).
§ 1210.155(b)(2)(ii) | Minerals Management Service | Office of Natural Resources Revenue.
§ 1210.156(a) | Part 220 | Part 1220.
§ 1210.156(c)(1) | Minerals Management Service | Office of Natural Resources Revenue.
§ 1210.156(c)(2) | Minerals Management Service | Office of Natural Resources Revenue.
§ 1210.157 (section heading) | MMS | ONRR.
§ 1210.157(a) (two times) | MMS | ONRR.
§ 1210.157(a) | Minerals Revenue Management | Office of Natural Resources (MRM) Revenue.
§ 1210.157(a) | Part 243 | 1243.
§ 1210.157(c)(1) | Minerals Management Service | Office of Natural Resources Revenue.
§ 1210.157(c)(2) | Minerals Management Service (MMS) | Office of Natural Resources Revenue.
§ 1210.158(a) | § 218.52 | § 1218.52 of this chapter.
§ 1210.158(b) | www.mrm.mms.gov | www.mrm.boemre.gov.
§ 1210.158(b) | MMS | ONRR.
§ 1210.158(c)(1) | Minerals Management Service | Office of Natural Resources Revenue.
§ 1210.158(c)(2) | Minerals Management Service | Office of Natural Resources Revenue.
§ 1210.201(a)(1)(iv) | MMS | ONRR.
§ 1210.201(a)(1)(iv) | § 218.51(a) | § 1218.51(a) of this chapter.
§ 1210.201(b)(3) | § 218.51(a) | § 1218.51(a) of this chapter.
§ 1210.201(b)(3) | MMS | ONRR.
§ 1210.201(c)(3) introductory text | MMS | ONRR.
§ 1210.201(c)(3)(i) | Minerals Management Service, Minerals Revenue Management | Office of Natural Resources Revenue (ONRR).
§ 1210.201(c)(3)(ii) | Minerals Management Service, Minerals Revenue Management | Office of Natural Resources Revenue.
§ 1210.202(c)(2) introductory text | MMS | ONRR.
§ 1210.202(c)(2)(i) | Minerals Management Service, Minerals Revenue Management | Office of Natural Resources Revenue.
§ 1210.202(c)(2)(ii) | Minerals Management Service | Office of Natural Resources Revenue.
§ 1210.203(c) | MMS | ONRR.
§ 1210.203(c) | § 210.202(c)(2) | § 1210.202(c)(2).
§ 1210.204(c)(2) | § 210.202(c)(2) | § 1210.202(c)(2).
§ 1210.205 introductory text | MMS | ONRR.
§ 1210.205(b) | MMS | ONRR.
§ 1210.205(1) | § 206.458 | § 1206.458.
§ 1210.205(2) | § 206.461 | § 1206.461.
§ 1210.205(c)(1) | Minerals Management Service | Office of Natural Resources Revenue.
§ 1210.205(c)(2) | Minerals Management Service | Office of Natural Resources Revenue.
§ 1210.206 (section heading) | MMS | ONRR.
§ 1210.350 | 30 CFR 206.351 | § 1206.351 of this chapter.
§ 1210.351 | Part 212 | Part 1212.
§ 1210.351 (two times) | MMS | ONRR.
§ 1210.352 (two times) | MMS | ONRR.
§ 1210.353 | MMS | ONRR.
§ 1210.354 (two times) | MMS | ONRR.
§ 1210.354 | Minerals Management Service, Minerals Revenue Management | Office of Natural Resources Revenue.

Chapter II, Subchapter A

PART 212—[REDESIGNATED AS PART 1212]

27. Transfer 30 CFR part 212 from chapter II, subchapter A, to chapter XII, subchapter A, and redesignate as 30 CFR part 1212.

Chapter XII, Subchapter A

PART 1212—RECORDS AND FILES MAINTENANCE

28. The authority citation for the newly redesignated 30 CFR part 1212 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

29. Amend the newly redesignated part 1212 as follows:

Amendment Table for Part 1212
Amend | By removing the reference to: | And adding in its place:
§ 1212.51(a) | Minerals Management Service (MMS) | Office of Natural Resources Revenue (ONRR).
§ 1212.200(b) | MMS | ONRR.
§ 1212.350 | 30 CFR 206.351 | § 1206.351.
§ 1212.351(a) | MMS | ONRR.
§ 1212.351(c) | Associate Director for Minerals Revenue Management | Director for Office of Natural Resources Revenue.

Chapter II, Subchapter A

29A. Remove reserved part 215 from subchapter A.

PART 217—[REDESIGNATED AS PART 1217]

30. Transfer 30 CFR part 217 from chapter II, subchapter A, to chapter XII, subchapter A, and redesignate as 30 CFR part 1217.

Chapter XII, Subchapter A

PART 1217—AUDITS AND INSPECTIONS

31. The authority citation for the newly redesignated 30 CFR part 1217 continues to read as follows:

Authority: 35 Stat. 312; 35 Stat. 781, as amended; secs. 32, 6, 26, 41 Stat. 450, 753, 1248; secs. 1, 2, 3, 44 Stat. 301, as amended; secs. 6, 3, 44 Stat. 659, 710; secs. 1, 2, 3, 44 Stat. 1057; 47 Stat. 1487; 49 Stat. 1482, 1250, 1967, 2026; 52 Stat. 347; sec. 10, 53 Stat. 1196, as amended; 56 Stat. 273; sec. 10, 61 Stat. 915; sec. 3, 63 Stat. 683; 64 Stat. 311; 25 U.S.C. 396, 396a-f, 30 U.S.C. 189, 271, 281, 293, 359. Interpret or apply secs. 5, 5, 44 Stat. 302, 1058, as amended; 58 Stat. 483-485; 5 U.S.C. 301, 16 U.S.C. 508b, 30 U.S.C. 189, 192c, 271, 281, 293, 359, 43 U.S.C. 387, unless otherwise noted.

32. Amend the newly redesignated part 1217 as follows:

Amendment Table for Part 1217
Amend | By removing the reference to: | And adding in its place:
§ 1217.200 (3 times) | Associate Director for Minerals Revenue Management | Director for Office of Natural Resources Revenue.

Chapter II, Subchapter A

PART 218—[REDESIGNATED AS PART 1218]

33. Transfer 30 CFR part 218 from chapter II, subchapter A, to chapter XII, subchapter A, and redesignate as 30 CFR part 1218.

Chapter XII, Subchapter A

PART 1218—COLLECTION OF MONIES AND PROVISION FOR GEOTHERMAL CREDITS AND INCENTIVES

34. The authority citation for the newly redesignated 30 CFR part 1218 continues to read as follows:

Authority: 25 U.S.C. 396 et seq., 396a et seq., 2101 et seq. ; 30 U.S.C. 181 et seq., 351 et seq., 1001 et seq., 1701 et seq.; 31 U.S.C. 3335; 43 U.S.C. 1301 et seq., 1331 et seq., and 1801 et seq.

35. Amend the newly redesignated part 1218 as follows:

Amendment Table for Part 1218
Amend | By removing the reference to: | And adding in its place:
§ 1218.10 | 30 CFR 210.10 | § 1210.10 of this chapter.
§ 1218.40(a) | MMS | Office of Natural Resources Revenue (ONRR).
§ 1218.40(e) (two times) | MMS | ONRR.
§ 1218.40(e) | MMS's | ONRR's.
§ 1218.41(a) (two times) | MMS | ONRR.
§ 1218.41(b) | MMS | ONRR.
§ 1218.41(c)(3) | MMS | ONRR.
§ 1218.41(c)(4) | MMS-assigned | ONRR-assigned.
§ 1218.41(e) | MMS | ONRR.
§ 1218.41(f) (three times) | MMS | ONRR.
§ 1218.42(c) | MMS | ONRR.
§ 1218.50(c) (two times) | MMS | ONRR.
§ 1218.50(d)(1) | 30 CFR 210.52 | § 1210.52 of this chapter.
§ 1218.50(d)(5)(i) | Minerals Management Service, Minerals Revenue Management | Office of Natural Resources Revenue.
§ 1218.50(e)(1) (two times) | MMS | ONRR.
§ 1218.50(e)(2) (two times) | MMS | ONRR.
§ 1218.51(a), definition of Courtesy Notice | MMS-issued | ONRR-issued.
§ 1218.51(a), definition of EFT | MMS | ONRR.
§ 1218.51(a), definition of Invoice document identification | MMS-assigned | ONRR-assigned.
§ 1218.51(a), definition of Payment | MMS | ONRR.
§ 1218.51(b) introductory text (two times) | MMS | ONRR.
§ 1218.51(b)(1) (two times) | MMS | ONRR.
§ 1218.51(b)(2) (two times) | MMS | ONRR.
§ 1218.51(b)(4) introductory text | MMS | ONRR.
§ 1218.51(c)(1) | Department of the Interior—Minerals Management Service | Department of the Interior—Office of Natural Resources Revenue.
§ 1218.51(c)(1) | DOI-MMS | DOI-ONRR.
§ 1218.51(c)(2) | Department of the Interior-Minerals Management Service | Department of the Interior-Office of Natural Resources Revenue.
§ 1218.51(c)(2) | DOI-MMS | DOI-ONRR.
§ 1218.51(c)(3) | Department of the Interior—Minerals Management Service | Department of the Interior—Office of Natural Resources Revenue.
§ 1218.51(c)(3) | DOI-MMS | DOI-ONRR.
§ 1218.51(c)(4) | (two times) MMS | ONRR.
§ 1218.51(d)(2) | Minerals Management Service, Minerals Revenue Management | Office of Natural Resources Revenue.
§ 1218.51(d)(3) | Minerals Management Service, Minerals Revenue Management | Office of Natural Resources Revenue.
§ 1218.51(e) | Minerals Management Service, Minerals Revenue Management | Office of Natural Resources Revenue.
§ 1218.51(f)(3)(ii) | 218.155(c) | § 1218.155(c).
§ 1218.51(f)(4)(i) | 30 CFR 218.155(c) | § 1218.155(c).
§ 1218.51(f)(4)(iii) | MMS | ONRR.
§ 1218.51(g) section heading | MMS | ONRR.
§ 1218.51(g)(1) (two times) | MMS | ONRR.
§ 1218.51(g)(1) | part 243 | part 1243.
§ 1218.51(g)(2) | MMS | ONRR.
§ 1218.51(g)(3) | MMS | ONRR.
§ 1218.51(h)(1) (two times) | MMS | ONRR.
§ 1218.51(h)(1) | 30 CFR 218.54 | § 1218.54
§ 1218.51(h)(2) | MMS | ONRR.
§ 1218.51(h)(2) | part 241 | part 1241.
§ 1218.52(a) introductory text | MMS | ONRR.
§ 1218.52(c)(2) | MMS | ONRR.
§ 1218.52(d) | MMS | ONRR.
§ 1218.53(b) (two times) | MMS | ONRR.
§ 1218.53(b) | part 210 | part 1210.
§ 1218.53(d) (two times) | MMS | ONRR.
§ 1218.54(e) | § 218.42 | § 1218.42.
§ 1218.55(b) | § 219.103 | § 1219.103.
§ 1218.100(a) | MMS | ONRR.
§ 1218.100(b) | Associate Director | Director.
§ 1218.100(c) | 30 CFR 218.51 | § 1218.51.
§ 1218.102(a) (two times) | MMS | ONRR.
§ 1218.102(b) (two times) | MMS | ONRR.
§ 1218.102(b) | § 218.51 | § 1218.51.
§ 1218.102(d) | § 218.42 | § 1218.42.
§ 1218.103(a) | MMS | ONRR.
§ 1218.103(a) | § 219.100 | § 1219.100.
§ 1218.103(a) | § 219.101 | § 1219.101.
§ 1218.150(a) | MMS | ONRR.
§ 1218.150(b) | MMS | ONRR.
§ 1218.150(c) (two times) | MMS | ONRR.
§ 1218.150(c) | § 218.51 | § 1218.51.
§ 1218.150(e) | § 218.42 | § 1218.42.
§ 1218.151 introductory text | 250 | part 250.
§ 1218.152 | MMS | ONRR.
§ 1218.154(a) introductory text | MMS | ONRR.
§ 1218.154(b) | MMS | ONRR.
§ 1218.155(a) | § 218.51 | § 1218.51.
§ 1218.155(c) (three times) | MMS | ONRR.
§ 1218.155(d)(1) | MMS | ONRR.
§ 1218.155(d)(3) (two times) | MMS | ONRR.
§ 1218.155(d)(3) | § 218.51 | § 1218.51.
§ 1218.155(d)(4) | MMS | ONRR.
§ 1218.155(e) introductory text | Department of the Interior—MMS | Department of the Interior—ONRR.
§ 1218.200 | MMS | ONRR.
§ 1218.201 introductory text | § 218.51 | § 1218.51.
§ 1218.201(b) | § 218.51(f)(1) | § 1218.51(f)(1).
§ 1218.201(c) | MMS | ONRR.
§ 1218.201(c) | § 218.51(f)(4)(iii) | § 1218.51(f)(4)(iii).
§ 1218.202(a) (two times) | MMS | ONRR.
§ 1218.202(b) (two times) | MMS | ONRR.
§ 1218.202(b) | § 218.51 | § 1218.51.
§ 1218.202(f) | § 218.42 | § 1218.42.
§ 1218.203(b) | MMS | MMS.
§ 1218.203(d) (two times) | MMS | ONRR.
§ 1218.300 | MMS | MMS.
§ 1218.301 | 30 CFR 218.51 | § 1218.51.
§ 1218.302(a) | Minerals Management Service (MMS) | ONRR.
§ 1218.302(a) | MMS | ONRR.
§ 1218.302(b) (two times) | MMS | ONRR.
§ 1218.302(b) | § 218.51 | § 1218.51.
§ 1218.302(f) | § 218.42 | § 1218.42.
§ 1218.303(a)(1) | 30 CFR 206.351 | § 1206.351 of this chapter.
§ 1218.304 | § 206.356(b) | § 1206.356 of this chapter.
§ 1218.305(a) | part 1206. | part 1206.
§ 1218.305(b) | MMS | ONRR.
§ 1218.306(a)(2) | MMS | ONRR.
§ 1218.306(b) | MMS | ONRR.
§ 1218.307 | part 1206 | part 1206.
§ 1218.520, definition of Addressee of record for service of official correspondence | § 218.540(b)(2) | § 1218.540(b)(2).
§ 1218.520, definition of Addressee of record for service of official correspondence | part 290, subpart B | part 1290.
§ 1218.520, definition of Official correspondence | MMS | ONRR.
§ 1218.540 (section heading) | MMS | ONRR.
§ 1218.540 introductory text | MMS | ONRR.
§ 1218.540 introductory text | part 241 | part 1241.
§ 1218.540(a) introductory text | MMS | ONRR.
§ 1218.540(b)(1) | MMS | ONRR.
§ 1218.540(b)(1) | part 290, subpart B | part 1290.
§ 1218.540(c) | MMS | ONRR.
§ 1218.560 (two times) | MMS | ONRR.
§ 1218.580 | MMS Form-4444 | Form MMS-4444.

Chapter II, Subchapter A

PART 219—[AMENDED]

36. Transfer 30 CFR part 219, subpart C (§§ 219.100 through 219.105), from chapter II, subchapter C, to 30 CFR, chapter XII, subchapter A, and redesignate as “PART 1219—DISTRIBUTION AND DISBURSEMENT OF ROYALTIES, RENTALS, AND BONUSES” (§§ 1219.100 through 1219.105).

Subpart C [Reserved]

37. Add and reserve a new subpart C to part 219 to read as set forth above.

Chapter XII, Subchapter A

PART 1219—DISTRIBUTION AND DISBURSEMENT OF ROYALTIES, RENTALS, AND BONUSES

38. Add an authority citation for the newly redesignated 30 CFR part 1219 to read as follows:

Authority: Section 104, Pub. L. 97-451, 96 Stat. 2451 (30 U.S.C. 1714), Pub. L. 109-432, Div C, Title I, 120 Stat. 3000.

39. Amend the newly redesignated part 1219 as follows:

AMENDMENT TABLE FOR PART 1219
Amend | By removing the reference to: | And adding in its place:
§ 1219.101(a) | Minerals Management Service (MMS) | Office of Natural Resources Revenue (ONRR).
§ 1219.101(a) | MMS | ONRR.
§ 1219.101(b) | § 219.100 | § 1219.100.
§ 1219.101(c)(2 times) | MMS | ONRR.
§ 1219.102 | MMS | ONRR.
§ 1219.102 | Minerals Management Service, Minerals Revenue Management | Office of Natural Resources Revenue.
§ 1219.103 | MMS | ONRR.
§ 1219.104(a)(2 times) | MMS | ONRR.
§ 1219.104(b)(2 times) | MMS | ONRR.
§ 1219.104(c) | MMS | ONRR.

Chapter II, Subchapter A

PART 220—[REDESIGNATED AS PART 1220]

40. Transfer 30 CFR part 220 from chapter II, subchapter A, to chapter XII, subchapter A, and redesignate as 30 CFR part 1220.

Chapter XII, Subchapter A

PART 1220—ACCOUNTING PROCEDURES FOR DETERMINING NET PROFIT SHARE PAYMENT FOR OUTER CONTINENTAL SHELF OIL AND GAS LEASES

41. The authority citation for the newly redesignated 30 CFR part 1220 continues to read as follows:

Authority: Sec. 205, Pub. L. 95-372, 92 Stat. 643 (43 U.S.C. 1337).

42. Amend the newly redesignated part 1220 as follows:

AMENDMENT TABLE FOR PART 1220
Amend | By removing the reference to : | And adding in its place:
§ 1220.001(a) | part 220 | part 1220.
§ 1220.001(b) | part 220 | part 1220.
§ 1220.001(b) | this chapter | this title.
§ 1220.002, definition of Allowance for capital recovery | § 220.020 | § 1220.020.
§ 1220.002, definition of Capital recovery period, paragraph (1) | MMS | Bureau of Ocean Energy Management, Regulation, and Enforcement (BOEMRE).
§ 1220.002, definition of Direct cost | § 220.011 | § 1220.011.
§ 1220.002, definition of Director | MMS | ONRR.
§ 1220.002, definition of Joint cost | § 220.011 | § 1220.011.
§ 1220.002, definition of Net profit share base | § 220.021 | § 1220.021.
§ 1220.002, definition of Net profit share base | part 220 | part 1220.
§ 1220.002, definitions of Net profit share rate, NPSL, Production revenue | this chapter | this title.
§ 1220.002, definition of Person | part 260 | part 1206.
§ 1220.003(a) | § 220.012 | § 1220.012.
§ 1220.003(a) | § 220.020 | § 1220.020.
§ 1220.003(b) | Minerals Management Service | Office of Natural Resources Revenue.
§ 1220.010(a) | § 220.012 | § 1220.012.
§ 1220.010(a) | § 220.020 | § 1220.020.
§ 1220.011 introductory text | § 220.014 | § 1220.014.
§ 1220.011(b)(4) introductory text | § 220.013(g) | § 1220.013(g).
§ 1220.011(b)(4)(iii) | § 220.013(g) | § 1220.013(g).
§ 1220.011(c)(1) | § 220.015 | § 1220.015.
§ 1220.011(c)(1) | § 220.032 | § 1220.032.
§ 1220.011(c)(3) | § 220.020 | § 1220.020.
§ 1220.011(c)(3) | § 220.021(a)(3) | § 1220.021(a)(3).
§ 1220.011(e) introductory text | § 220.013(c) | § 1220.013(c).
§ 1220.011(f) | § 220.013(f) | § 1220.013(f).
§ 1220.011(j)(2)(ii) | § 220.020 | § 1220.020.
§ 1220.011(j)(2)(ii) | § 220.021(a)(3) | § 1220.021(a)(3).
§ 1220.011(k) | § 220.014 | § 1220.014.
§ 1220.011(o) | § 220.013 | § 1220.013.
§ 1220.012(a) | § 220.021(b)(2) | § 1220.021(b)(2).
§ 1220.012(b) | § 220.021(c)(2) | § 1220.021(c)(2).
§ 1220.012(c)(1) | § 220.011(a) | § 1220.011(a).
§ 1220.012(c)(2) | § 220.011(e) | § 1220.011(e).
§ 1220.012(c)(3) | § 220.011(i) | § 1220.011(i).
§ 1220.012(c)(4) | § 220.011(c) | § 1220.011(c).
§ 1220.012(c)(5) | § 220.011(c) | § 1220.011(c).
§ 1220.013(b) | § 220.011(g) | § 1220.011(g).
§ 1220.013(c) | § 220.011(c) | § 1220.011(c).
§ 1220.013(c) | § 220.020 | § 1220.020.
§ 1220.013(f)(4) | § 220.011(f) | § 1220.011(f).
§ 1220.013(i) | § 220.011(g) | § 1220.011(g).
§ 1220.015(a)(1) | § 220.011(c)(3) | § 1220.011(c)(3).
§ 1220.015(b)(1) | § 220.011(d) | § 1220.011(d).
§ 1220.020(a)(1) | § 220.012(c) | § 1220.012(c).
§ 1220.020(a)(2) | § 220.011(e) | § 1220.011(e).
§ 1220.020(a)(3) | § 220.012(a) | § 1220.012(a).
§ 1220.020(b) | § 220.021(b) | § 1220.021(b).
§ 1220.020(c) | § 220.021(b) | § 1220.021(b).
§ 1220.021(a)(2) | this chapter | this titleI.
§ 1220.021(a)(3) | § 220.011(p) | § 1220.011(p).
§ 1220.021(b)(2) | § 220.012(a) | § 1220.012(a).
§ 1220.021(b)(3) | § 220.020 | § 1220.020.
§ 1220.021(c)(2) | § 220.012(b) | § 1220.012(b).
§ 1220.022 | § 220.021 | § 1220.021.
§ 1220.030(a) introductory text | part 220 | part 1220.
§ 1220.030(a)(4) (two times) | § 220.011(g) | § 1220.011(g).
§ 1220.031(b) introductory text | part 220 | part 1220.
§ 1220.031(c) | part 220 | part 1220.
§ 1220.031(d) | part 220 | part 1220.
§ 1220.031(e) | part 220 | part 1220.
§ 1220.032(d) | § 220.033 | § 1220.033.
§ 1220.032(d) | § 220.015(a)(2) | § 1220.015(a)(2).
§ 1220.032(d) | § 220.020 | § 1220.020.
§ 1220.032(d) | § 220.021(a)(3) | § 1220.021(a)(3).
§ 1220.033(c)(1) | § 220.034 | § 1220.034.
§ 1220.033(e) | § 220.030(a) | § 1220.030(a).
§ 1220.034(a) | § 220.033 | § 1220.033.
§ 1220.034(d) | 30 CFR part 290 | part 1290 of this chapter.

Chapter II, Subchapter A

PART 227—[REDESIGNATED AS PART 1227]

43. Transfer 30 CFR part 227 from chapter II, subchapter A, to chapter XII, subchapter A, and redesignate as 30 CFR part 1227.

Chapter XII, Subchapter A

PART 1227—DELEGATION TO STATES

44. The authority citation for the newly redesignated 30 CFR part 1227 continues to read as follows:

Authority: 30 U.S.C. 1735; 30 U.S.C. 196; Pub. L. 102-154.

45. Amend the newly redesignated part 1227 as follows:

Amendment Table for Part 1227
Amend | By removing the reference to: | And adding in its place:
§ 1227.1 | MMS Offshore Minerals Management program | BOEMRE.
§ 1227.10(b) | MMS estimates 400 | Office of Natural Resources Revenue (ONRR) estimates 400.
§ 1227.10(b) (two times) | MMS | ONRR.
§ 1227.10(b) | Minerals Management Service, 1849 C Street, NW., Washington, DC 20240 | Bureau of Ocean Energy Management, Regulation, and Enforcement, 381 Elden Street, Herndon, VA 20107.
§ 1227.101 (section heading) | MMS | ONRR.
§ 1227.101(a) introductory text | MMS | ONRR.
§ 1227.101(b) introductory text | MMS | ONRR.
§ 1227.101(c) | MMS | ONRR.
§ 1227.102 (section heading) | MMS | ONRR.
§ 1227.102 introductory text (two times) | MMS | ONRR.
§ 1227.102(a) (two times) | MMS | ONRR.
§ 1227.102(b) (two times) | MMS | ONRR.
§ 1227.102(d) (three times) | MMS | ONRR.
§ 1227.102(e) | MMS | ONRR.
§ 1227.102(f) | MMS | ONRR.
§ 1227.103 introductory text (2 times) | MMS | ONRR.
§ 1227.103 introductory text | MMS Associate Director for Minerals Revenue Management | Director for Office of Natural Resources Revenue.
§ 1227.103(c)(2)(i) | MMS | ONRR.
§ 1227.103(e)(3)(i)(A) | MMS | ONRR.
§ 1227.103(g) | MMS | ONRR.
§ 1227.104 (section heading) | MMS | ONRR.
§ 1227.104 (four times) | MMS | ONRR.
§ 1227.104 | § 227.103 | § 1227.103.
§ 1227.105 introductory text (three times) | MMS | ONRR.
§ 1227.105(a) | MMS | ONRR.
§ 1227.105(c) | MMS | ONRR.
§ 1227.105(d) (four times) | MMS | ONRR.
§ 1227.105(g) | MMS | ONRR.
§ 1227.105(h) | MMS | ONRR.
§ 1227.105(i) | MMS | ONRR.
§ 1227.106 introductory text (five times) | MMS | ONRR.
§ 1227.106(b) | MMS | ONRR.
§ 1227.106(d) (two times) | MMS | ONRR.
§ 1227.106(e) | MMS | ONRR.
§ 1227.107 (section heading) | MMS | ONRR.
§ 1227.107 (two times) | MMS | ONRR.
§ 1227.107 | § 227.104 | § 1227.104.
§ 1227.108 (section heading) | MMS | ONRR.
§ 1227.108 (three times) | MMS | ONRR.
§ 1227.109 (section heading) | MMS | ONRR.
§ 1227.109 (three times) | MMS | ONRR.
§ 1227.110(a) (five times) | MMS | ONRR.
§ 1227.110(a) | § 227.108 | § 1227.108.
§ 1227.110(a) | www.mms.gov | www.boemre.gov.
§ 1227.110(b) introductory text | MMS | ONRR.
§ 1227.110(b) introductory text | MMS Associate Director for Minerals Revenue Management | Director for Office of Natural Resources Revenue.
§ 1227.110(b)(1) | MMS | ONRR.
§ 1227.110(c) (five times) | MMS | ONRR.
§ 1227.110(d) (four times) | MMS | ONRR.
§ 1227.110(e) | MMS Associate Director for Minerals Revenue Management | Director for Office of Natural Resources Revenue.
§ 1227.111(c) | MMS | ONRR.
§ 1227.112(b) | MMS | ONRR.
§ 1227.112(f) | MMS | ONRR.
§ 1227.112(g) | MMS | ONRR.
§ 1227.112(g) | section 227.801 | § 1227.801.
§ 1227.200(a) (four times) | MMS | ONRR.
§ 1227.200(c) (two times) | MMS | ONRR.
§ 1227.200(d) | MMS | ONRR.
§ 1227.200(e) introductory text (three times) | MMS | ONRR.
§ 1227.200(f) | MMS | ONRR.
§ 1227.200(f) | § 227.201 | § 1227.201.
§ 1227.200(h) | MMS | ONRR.
§ 1227.200(i) | MMS's | ONRR's.
§ 1227.200(j) | § 227.201 | § 1227.201.
§ 1227.201(a) | MMS | ONRR.
§ 1227.201(c) | §§ 227.801 and 227.802 | §§ 1227.801 and 1227.802.
§ 1227.201(d) | MMS | ONRR.
§ 1227.300 introductory text | MMS | ONRR.
§ 1227.300(a)(4) | MMS | ONRR.
§ 1227.301(a) | MMS | ONRR.
§ 1227.301(b) (two times) | MMS | ONRR.
§ 1227.301(c) | MMS | ONRR.
§ 1227.301(e) (two times) | MMS | ONRR.
§ 1227.400(a)(4) | MMS | ONRR.
§ 1227.400(a)(6) | MMS | ONRR.
§ 1227.400(a)(7) | MMS | ONRR.
§ 1227.400(c) | MMS | ONRR.
§ 1227.401(b) | MMS | ONRR.
§ 1227.401(c) | MMS | ONRR.
§ 1227.401(d) | MMS | ONRR.
§ 1227.401(e) (two times) | MMS | ONRR.
§ 1227.401(f) | part 210 | part 1210.
§ 1227.401(f) (two times) | MMS | ONRR.
§ 1227.401(g) | part 218 | part 1218.
§ 1227.500(g) | MMS | ONRR.
§ 1227.501(a) | parts 216 and 218 | parts 1216 and 1218.
§ 1227.501(a) | 30 CFR 227.401(f) and (g) | 30 CFR 1227.401(f) and (g).
§ 1227.501(a) | MMS | ONRR.
§ 1227.501(c) | MMS | ONRR.
§ 1227.501(c) | part 219 | part 1219.
§ 1227.600(a)(3) | MMS | ONRR.
§ 1227.600(b)(3) (two times) | MMS | ONRR.
§ 1227.600(d) | MMS | ONRR.
§ 1227.601(d) (two times) | MMS | ONRR.
§ 1227.700(d)(1) | MMS | ONRR.
§ 1227.800 (section heading) | MMS | ONRR.
§ 1227.800 introductory text | MMS's | ONRR's.
§ 1227.800(a) | MMS | ONRR.
§ 1227.800(b)(1) | § 227.200(e) | § 1227.200(e).
§ 1227.800(b)(2) | MMS | ONRR.
§ 1227.800(b)(3) | MMS | ONRR.
§ 1227.801 introductory text (two times) | MMS | ONRR.
§ 1227.801 introductory text | § 227.106 | § 1227.106.
§ 1227.801(a) | MMS | ONRR.
§ 1227.801(b)(1) | § 227.802 | § 1227.802.
§ 1227.801(b)(2) | § 227.112 | § 1227.112.
§ 1227.801(b) introductory text (two times) | MMS | ONRR.
§ 1227.801(b)(3)(ii) | MMS | ONRR.
§ 1227.802 (section heading) | MMS | ONRR.
§ 1227.802 introductory text | MMS | ONRR.
§ 1227.802(a) | MMS | ONRR.
§ 1227.802(b) | MMS | ONRR.
§ 1227.802(b) | § 227.803 | § 1227.803.
§ 1227.802(c) | MMS | ONRR.
§ 1227.802(d) introductory text | MMS | ONRR.
§ 1227.802(e) (two times) | MMS | ONRR.
§ 1227.803(a) | MMS | ONRR.
§ 1227.803(f) introductory text | MMS | ONRR.
§ 1227.803(g) | MMS | ONRR.
§ 1227.803(h) introductory text | MMS | ONRR.
§ 1227.803(h)(2) | § 227.106 | § 1227.106.
§ 1227.804 (three times) | MMS | ONRR.

Chapter II, Subchapter A

PART 228—[REDESIGNATED AS PART 1228]

46. Transfer 30 CFR part 228 from chapter II, subchapter A, to chapter XII, subchapter A, and redesignate as 30 CFR part 1228.

Chapter XII, Subchapter A

PART 1228—COOPERATIVE ACTIVITIES WITH STATES AND INDIAN TRIBES

47. The authority citation for the newly redesignated 30 CFR part 1228 continues to read as follows:

Authority: Sec. 202, Pub. L. 97-451, 96 Stat. 2457 (30 U.S.C. 1732).

48. Amend the newly redesignated part 1228 as follows:

Amendment Table for Part 1228
Amend | By removing the reference to: | And adding in its place:
§ 1228.5(a) | Minerals Management Service (MMS) | Office of Natural Resources Revenue (ONRR).
§ 1228.5(c) (3 times) | MMS | ONRR.
§ 1228.6, definition of Audit | MMS | ONRR.
§ 1228.10(b) | Minerals Management Service | Bureau of Ocean Energy Management, Regulation, and Enforcement.
§ 1228.100(a) | MMS | ONRR.
§ 1228.100(b) introductory text | MMS | ONRR.
§ 1228.100(c) | § 228.105 | § 1228.105.
§ 1228.101(d) (3 times) | MMS | ONRR.
§ 1228.102 (5 times) | MMS | ONRR.
§ 1228.103(a) | MMS | ONRR.
§ 1228.104(a) | MMS | ONRR.
§ 1228.104(c) | MMS | ONRR.
§ 1228.108 | MMS | ONRR.

Chapter II, Subchapter A

PART 229—[REDESIGNATED AS PART 1229]

49. Transfer 30 CFR part 229 from chapter II, subchapter A, to chapter XII, subchapter A, and redesignate as 30 CFR part 1229.

Chapter XII, Subchapter A

PART 1229—DELEGATION TO STATES

50. The authority citation for the newly redesignated 30 CFR part 1229 continues to read as follows:

Authority: 30 U.S.C. 1735.

51. Amend the newly redesignated part 1229 as follows:

Amendment Table for Part 1229
Amend | By removing the reference to: | And adding in its place:
§ 1229.6 | part 228 | part 1228.
§ 1229.100(a)(1) | MMS | to the Office of Natural Resources Revenue (ONRR).
§ 1229.100(a)(1) | MMS | ONRR.
§ 1229.100(a)(2) (three times) | MMS | ONRR.
§ 1229.100(b) introductory text | MMS | ONRR.
§ 1229.101(b) | part 228 | part 1228.
§ 1229.102(b)(4) | MMS | ONRR.
§ 1229.102(b)(5) | MMS | ONRR.
§ 1229.103(a) | § 229.101 | $sect; 1229.101.
§ 1229.104(b) | MMS | ONRR.
§ 1229.104(b) | § 229.100 | § 1229.100.
§ 1229.104(d) | MMS | ONRR.
§ 1229.104(e) | MMS | ONRR.
§ 1229.104(f) | MMS | ONRR.
§ 1229.107(a) | MMS | ONRR.
§ 1229.107(a) | part 219 | part 1219.
§ 1229.107(c) | MMS | ONRR.
§ 1229.108 | MMS | ONRR.
§ 1229.111 | MMS | ONRR.
§ 1229.111 | § 229.104 | § 1229.104.
§ 1229.120 (two times) | MMS | ONRR.
§ 1229.121(b) | MMS | ONRR.
§ 1229.121(c) (two times) | MMS | ONRR.
§ 1229.121(c) | § 229.124 | § 1229.124
§ 1229.121(d) | MMS | ONRR.
§ 1229.122(a) (two times) | MMS | ONRR.
§ 1229.122(b) (two times) | MMS | ONRR.
§ 1229.122(c) | MMS | ONRR.
§ 1229.123(b)(2) (three times) | MMS | ONRR.
§ 1229.123(b)(3)(i) | MMS | ONRR.
§ 1229.123(b)(3)(v) (two times) | MMS | ONRR.
§ 1229.123(b)(3)(vii) | MMS | ONRR.
§ 1229.125(a) | MMS | ONRR.
§ 1229.125(b) (two times) | MMS | ONRR.
§ 1229.126(a) | parts 243 and 290 | parts 1243 and 1290.
§ 1229.126(a) (three times) | MMS | ONRR.
§ 1229.126(b) | MMS | ONRR.

Chapter II, Subchapter A

51A. Remove reserved parts 230 through 234 from subchapter A.

PART 241—[REDESIGNATED AS PART 1241]

52. Transfer 30 CFR part 241 from chapter II, subchapter A, to chapter XII, subchapter A, and redesignate as 30 CFR part 1241.

Chapter XII, Subchapter A

PART 1241—PENALTIES

53. The authority citation for the newly redesignated 30 CFR part 1241 continues to read as follows:

Authority: 25 U.S.C. 396 et seq., 396a et seq., 2101 et seq.; 30 U.S.C. 181 et seq., 351 et seq., 1001 et seq., 1701 et seq.; 43 U.S.C. 1301 et seq., 1331 et seq., 1801 et seq.

54. Amend the newly redesignated part 1241 as follows:

Amendment Table for Part 1241
Amend | By removing the reference to : | And adding in its place:
§ 1241.51 (section heading) | MMS | Office of Natural Resources Revenue (ONRR).
§ 1241.51(b) | part 218 | part 1218 of this chapter.
§ 1241.55(b) introductory text | § 241.72 | § 1241.72.
§ 1241.55(b)(2) (two times) | part 243 | part 1243
§ 1241.56(a) (two times) | § 241.54 | § 1241.54
§ 1241.61 (section heading) | MMS | ONRR
§ 1241.61 | part 218 | part 1218
§ 1241.63(b) introductory text | § 241.72 | § 1241.72
§ 1241.63(b)(2) (two times) | part 243 | part 1243
§ 1241.64(a) (two times) | § 241.62 | § 1241.62
§ 1241.70 (section heading) | MMS | ONRR
§ 1241.71(b) | § 241.75(d) | § 1241.75(d)
§ 1241.71(b) | MMS | ONRR
§ 1241.71(b) | 30 CFR 218.54 | § 1218.54 of this chapter.
§ 1241.72 | §§ 241.54, 241.56, 241.62 or § 241.64 | §§ 241.54, 1241.56, 1241.62 or § 1241.64.
§ 1241.75(a) | §§ 241.53 or § 241.61 | §§ 1241.53 or § 1241.61.
§ 1241.75(a) | § 241.54, § 241.56, § 241.62, or § 241.64 | § 1241.54, § 1241,56, § 1241.62, or § 1241.64.
§ 1241.75(b) | § 241.54, § 241.56, § 241.62, or § 241.64 | § 1241.54, § 1241,56, § 1241.62, or § 1241.64.
§ 1241.75(b) | § 241.73 | § 1241.73.
§ 1241.75(d)(1) | § 241.54, § 241,56, § 241.62, or § 241.64 | § 1241.54, § 1241,56, § 1241.62, or § 1241.64.
§ 1241.75(d)(2) | § 241.72 | § 241.72.
§ 1241.75(d)(2) | § 241.55(b) or § 241.63(b) | § 1241.55(b) or § 1241.63(b).
§ 1241.75(d)(2) | § 241.73 | § 1241.73.
§ 1241.75(d)(3) | § 241.73 | § 1241.73.
§ 1241.75(e) | § 241.77 | § 1241.77.
§ 1241.76 (section heading) | MMS | ONRR.
§ 1241.77 (section heading) | MMS | ONRR.
§ 1241.77(a) | MMS | ONRR.
§ 1241.77(b) (two times) | § 241.74 | § 1241.74.
§ 1241.80 | § 241.60(b) | § 1241.60(b).

Chapter II, Subchapter A

54A. Remove reserved part 242 from subchapter A.

PART 243—[REDESIGNATED AS PART 1243]

55. Transfer 30 CFR part 243 from chapter II, subchapter A, to 30 CFR, chapter XII, subchapter A, and redesignate as 30 CFR part 1243.

Chapter XII, Subchapter A

PART 1243—SUSPENSIONS PENDING APPEAL AND BONDING—OFFICE OF NATURAL RESOURCES REVENUE

56. The authority citation for the newly redesignated 30 CFR part 1243 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

57. Revise the heading of newly designated part 1243 to read as set forth above.

58. Amend the newly redesignated part 1243 as follows:

Amendment Table for Part 1243
Amend | By removing the reference to: | And adding in its place:
§ 1243.1(a) | part 290, subpart B | part 1290 of this chapter.
§ 1243.3, definition of Designee | § 218.52 | § 1218.52.
§ 1243.3, definition of MMS bond-approving officer | MMS | ONRR.
§ 1243.3, definition of MMS bond-approving Officer | Associate Director for Minerals Revenue Management | Director for Office of Natural Resources Revenue (ONRR).
§ 1243.3, definition of MMS-specified surety instrument (three times) | MMS-specified | ONRR-specified.
§ 1243.3, definition of Notice of order (two times) | MMS | ONRR.
§ 1243.3, definition of Order | part 208 | part 1208.
§ 1243.4(b)(2) | § 243.5 | § 1243.5.
§ 1243.5 | § 243.4(a)(1) | § 1243.4(a)(1).
§ 1243.6 | § 243.4(a)(1) | § 1243.4(a)(1).
§ 1243.7 introductory text | § 243.5 | § 1243.5.
§ 1243.7(a) | MMS | ONRR.
§ 1243.7(a) | § 243.200(a) | § 1243.200(a).
§ 1243.7(b) | MMS | ONRR.
§ 1243.8 (section heading) | MMS | ONRR.
§ 1243.8(a)(1) (two times) | MMS | ONRR.
§ 1243.8(a)(1) | MMS for OCS leases | BOEMRE for OCS leases.
§ 1243.8(a)(2) introductory text | MMS | ONRR.
§ 1243.8(a)(2)(i) | MMS-specified | ONRR-specified.
§ 1243.8(a)(2)(i) | MMS | ONRR.
§ 1243.8(b)(1) (two times) | MMS | ONRR.
§ 1243.8(b)(2) (two times) | MMS | ONRR.
§ 1243.8(b)(2) | MMS-specified | ONRR-specified.
§ 1243.8(d) | MMS | ONRR.
§ 1243.9 (section heading) | MMS | ONRR.
§ 1243.9(a) | MMS | ONRR.
§ 1243.9(b) (two times) | MMS | ONRR.
§ 1243.10 (section heading) | MMS | ONRR.
§ 1243.10(a)(1) | MMS-specified | ONRR-specified.
§ 1243.10(b) introductory text | MMS | ONRR.
§ 1243.10(b)(1) | MMS | ONRR.
§ 1243.10(b)(4) (two times) | § 243.101(b) | § 1243.101(b).
§ 1243.10(b)(4) | MMS | ONRR.
§ 1243.10(b)(5) | § 243.8 or § 243.9 | § 1243.8 or § 1243.9.
§ 1243.10(b)(6) | MMS | ONRR.
§ 1243.10(b)(6) | § 243.202(c) | § 1243.202(c).
§ 1243.10(b)(6) | MMS-specified | ONRR-specified.
§ 1243.11 (section heading) | MMS | ONRR.
§ 1243.12 | MMS-specified | ONRR-specified.
§ 1243.100 (section heading) | MMS-specified | ONRR-specified.
§ 1243.100(a) | MMS-specified | ONRR-specified.
§ 1243.100(a) (two times) | MMS | ONRR.
§ 1243.100(a) | MMS-specified | ONRR-specified.
§ 1243.100(b) introductory text | MMS | ONRR.
§ 1243.100(b)(2) | MMS | ONRR.
§ 1243.101 (section heading) | MMS | ONRR.
§ 1243.101(a) introductory text | MMS | ONRR.
§ 1243.101(a)(1) | MMS-specified | ONRR-specified.
§ 1243.200(a) introductory text (two times) | MMS | ONRR.
§ 1243.200(b) (two times) | MMS | ONRR.
§ 1243.200(c) | MMS | ONRR.
§ 1243.201 (section heading) | MMS | ONRR.
§ 1243.201(a) | MMS | ONRR.
§ 1243.201(c) introductory text | MMS | ONRR.
§ 1243.201(c) introductory text | § 243.200(a) | § 1243.200(a).
§ 1243.201(c)(2)(i) | 30 CFR 218.51 | § 1218.51 of this chapter.
§ 1243.202 (section heading) | MMS | ONRR.
§ 1243.202(a) | § 243.201(b) | § 1243.201(b).
§ 1243.202(a) | MMS | ONRR.
§ 1243.202(a) | §§ 243.201(b) and (c) | §§ 1243.201(b) and (c).
§ 1243.202(b) | § 243.201(c) | § 1243.201(c).
§ 1243.202(c) | MMS-specified | ONRR-specified.

Chapter II, Subchapter C

PART 290—[AMENDED]

59. Transfer 30 CFR part 290, subpart B (§§ 290.100 through 290.110), from chapter II, subchapter C, to 30 CFR, chapter XII, subchapter B, and redesignate as “PART 1290—APPEAL PROCEDURES FOR OFFICE OF NATURAL RESOURCES REVENUE” (§§ 1290.100 through 1290.110).

Subpart B [Reserved]

60. Add and reserve a new subpart B to part 290 to read as set forth above.

Chapter XII, Subchapter B

PART 1290—APPEAL PROCEDURES FOR OFFICE OF NATURAL RESOURCES REVENUE

61. Add an authority citation for the newly redesignated 30 CFR part 1290 to read as follows:

Authority: 5 U.S.C. 301 et seq.; 43 U.S.C. 1331.

62. Amend the newly redesignated part 1290 as follows:

Amendment Table for Part 1290
Amend | By removing the reference to: | And adding in its place:
§ 1290.100 | Minerals Management Service (MMS) | Office of Natural Resources Revenue (ONRR).
§ 1290.100 | Minerals Revenue Management (MRM) | ONRR.
§ 1290.102, definition of Delegated State | MMS | ONRR.
§ 1290.102, definition of Delegated State | part 227 | part 1227 of this chapter.
§ 1290.102, definition of Designee | 30 CFR 218.52 | § 1218.52 of this chapter.
§ 1290.102, definition of Notice of Order (2 times). | MMS | ONRR.
§ 1290.102, definition of Order | MMS Director, MMS MRM, or a delegated state | ONRR Director, or a delegated state.
§ 1290.102, definition of Order, paragraph (1)(ii) | MMS | ONRR.
§ 1290.102, definition of Order, paragraph (2)(iii) | MMS | ONRR.
§ 1290.102, definition of Order, paragraph (2)(iv) | part 241 | part 1241.
§ 1290.102, definition of Party | MMS | ONRR.
§ 1290.103(a) | § 290.104 | § 1290.104.
§ 1290.103(b) | § 290.106 | § 1290.106.
§ 1290.104(b) | part 243 | part 1243.
§ 1290.105(a) introductory text | Minerals Management Service (MMS Director) | Office of Natural Resources Revenue (ONRR Director).
§ 1290.105(d) | MMS | ONRR.
§ 1290.105(e) | MMS | ONRR.
§ 1290.105(f) | MMS | ONRR.
§ 1290.105(g) | MMS | ONRR.
§ 1290.106(a) | § 290.103 | § 1290.103.
§ 1290.106(a) | § 290.105(a)(2) | § 1290.105(a)(2).
§ 1290.108 | MMS | ONRR.
§ 1290.110(a) introductory text | MMS Royalty Management Program (RMP) | Office of Natural Resources Revenue (ONRR).
§ 1290.110(a)(1) | MMS | ONRR.
§ 1290.110(a)(2) | part 290, subpart B | part 1290.

[FR Doc. 2010-24721 Filed 10-1-10; 8:45 am]

BILLING CODE 4310-MR-P